DEPARTMENT OF HOUSING AND URBAN DEVELOPMENT

[Docket No. FR-4644-N-10]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Brian K. Polly, Assistant Commissioner, General Services Administration, Office of Property Disposal, 18th and F Streets, NW, Washington, DC 20405; (202) 501-0386; NAVY: Mr. Charles C. Cocks, Director, Department of the Navy, Real Estate Policy Division, Naval Facilities Engineering Command, Washington Navy Yard, 1322 Patterson Ave., SE, Suite 1000, Washington, DC 20374-5065; (202) 685-9200; VA: Mr. Anatolij Kushnir, Director, Asset & Enterprise Development Service, Department of Veterans Affairs, 811 Vermont Avenue, NW, Room 419, Lafayette Bldg., Washington, DC 20420; (202) 565-5941; (These are not toll-free numbers).

Dated: March 2, 2001.
John D. Garrity,
Director, Office of Special Needs Assistance Programs.

Title V, Federal Surplus Property Program, Federal Register Report for 3/9/01

Suitable/Available Properties

Buildings (by State)

California

Bldg. 301

Naval Support Activity

Monterey Co: CA 93943-

Landholding Agency: Navy

Property Number: 77200020041

Status: Excess

Comment: 18,608 sq. ft., presence of asbestos/lead paint, needs major rehab.

Bldg. 371

Naval Warfare Systems Center

San Diego Co: CA 92152-

Landholding Agency: Navy

Property Number: 77200020080

Status: Unutilized

Comment: 29,800 sq. ft., needs rehab, presence of asbestos/lead paint, off-site use only.

Bldg. 402

Naval Warfare Systems Center

San Diego Co: CA 92152-

Landholding Agency: Navy

Property Number: 77200020081

Status: Unutilized

Comment: presence of lead paint, most recent use—storage, off-site use only.

Bldg. 417

Naval Warfare Systems Center

San Diego Co: CA 92152-

Landholding Agency: Navy

Property Number: 77200020082

Status: Unutilized

Comment: 110 TR, needs rehab, presence of asbestos/lead paint, off-site use only.

Bldg. 418

Naval Warfare Systems Center

San Diego Co: CA 92152-

Landholding Agency: Navy

Property Number: 77200020083

Status: Unutilized

Comment: 288 sq. ft., presence of lead paint, most recent use—storage, off-site use only.

Bldg. 426

Naval Warfare Systems Center

San Diego Co: CA 92152-

Landholding Agency: Navy

Property Number: 77200020084

Status: Unutilized

Comment: presence of asbestos/lead paint, off-site use only.

Bldg. 434

Naval Warfare Systems Center

San Diego Co: CA 92152-

Landholding Agency: Navy

Property Number: 77200020085

Status: Unutilized

Comment: 11,440 sq. ft., needs rehab, presence of asbestos/lead paint, off-site use only.

Bldg. 210

Naval Warfare Assessment Station

Corona Co: CA 91718-5000

Landholding Agency: Navy

Property Number: 77200020086

Status: Unutilized

Comment: 17,708 sq. ft., needs rehab, presence of asbestos/lead paint, most recent use—police station, off-site use only.

Bldg. 541

Naval Warfare Assessment Station

Corona Co: CA 91718-5000

Landholding Agency: Navy

Property Number: 77200020087

Status: Unutilized

Comment: 3857 sq. ft., needs rehab, presence of asbestos/lead paint, most recent use—lab, off-site use only.

Bldg. 804

Naval Warfare Assessment Station

Corona Co: CA 91718-5000

Landholding Agency: Navy

Property Number: 77200020088

Status: Unutilized

Comment: 3119 sq. ft., needs rehab, presence of asbestos/lead paint, most recent use—admin., off-site use only.

Bldg. 805

Naval Warfare Assessment Station

Corona Co: CA 91718-5000

Landholding Agency: Navy

Property Number: 77200020089

Status: Unutilized

Comment: 3732 sq ft., needs rehab, presence of asbestos/lead paint, most recent use—storage, off-site use only.

Bldg. 806

Naval Warfare Assessment Station

Corona Co: CA 91718-5000

Landholding Agency: Navy

Property Number: 77200020090

Status: Unutilized

Comment: 3110 sq. ft., needs rehab, presence of asbestos/lead paint, most recent use—office, off-site use only.

Bldg. 807

Naval Warfare Assessment Station

Corona Co: CA 91718-5000

Landholding Agency: Navy

Property Number: 77200020091

Status: Unutilized

Comment: 3110 sq. ft., needs rehab, presence of asbestos/lead paint, most recent use—office, off-site use only.

Bldgs. 23027, 23025

Marine Corps Air Station

Miramar Co: San Diego CA 92132-

Landholding Agency: Navy

Property Number: 77200040023

Status: Unutilized

Comment: 400 sq. ft., metal siding, most recent use—loading facility, off-site use only.

Bldg. 12174

Naval Air Weapons Station

China Lake Co: CA 93555-6100

Landholding Agency: Navy

Property Number: 77200110048

Status: Excess

Comment: 480 sq. ft., most recent use—change house, off-site use only.

Bldg. 16007

Naval Air Weapons Station

China Lake Co: CA 93555-6100

Landholding Agency: Navy

Property Number: 77200110049

Status: Excess

Comment: 300 sq. ft., most recent use—firing station, off-site use only.

Bldg. 16009

Naval Air Weapons Station

China Lake Co: CA 93555-6100

Landholding Agency: Navy

Property Number: 77200110050

Status: Excess

Comment: most recent use—camera station, off-site use only.

Bldg. 16025

Naval Air Weapons Station

China Lake Co: CA 93555-6100

Landholding Agency: Navy

Property Number: 77200110051

Status: Excess

Comment: 4220 sq. ft., most recent use—offices, off-site use only.

Bldg. 16052

Naval Air Weapons Station

China Lake Co: CA 93555-6100

Landholding Agency: Navy

Property Number: 77200110052

Status: Excess

Comment: 560 sq. ft., most recent use—storage, off-site use only.

Bldg. 31497

Naval Air Weapons Station

China Lake Co: CA 93555-6100

Landholding Agency: Navy

Property Number: 77200110053

Status: Excess

Comment: most recent use—fragmentation pool, off-site use only.

Bldg. 31501

Naval Air Weapons Station

China Lake Co: CA 93555-6100

Landholding Agency: Navy

Property Number: 77200110054

Status: Excess

Comment: 3666 sq. ft., most recent use—lab, off-site use only.

Bldg. 31520

Naval Air Weapons Station

China Lake Co: CA 93555-6100

Landholding Agency: Navy

Property Number: 77200110055

Status: Excess

Comment: 693 sq. ft., most recent use—storage, off-site use only.

Bldg. 31522

Naval Air Weapons Station

China Lake Co: CA 93555-6100

Landholding Agency: Navy

Property Number: 77200110056

Status: Excess

Comment: 144 sq. ft., most recent use—equip. bldg., off-site use only.

Bldg. 31584

Naval Air Weapons Station

China Lake Co: CA 93555-6100

Landholding Agency: Navy

Property Number: 77200110057

Status: Excess

Comment: 113 sq. ft., most recent use—storage, off-site use only.

Bldg. 31585

Naval Air Weapons Station

China Lake Co: CA 93555-6100

Landholding Agency: Navy

Property Number: 77200110058

Status: Excess

Comment: most recent use—testing tower, off-site use only.

Bldg. 31587

Naval Air Weapons Station

China Lake Co: CA 93555-6100

Landholding Agency: Navy

Property Number: 77200110059

Status: Excess

Comment: most recent use—obsv. tower, off-site use only.

Bldg. 32527

Naval Air Weapons Station

China Lake Co: CA 93555-6100

Landholding Agency: Navy

Property Number: 77200110060

Status: Excess

Comment: most recent use—equip. shelter, off-site use only.

Bldg. 32528

Naval Air Weapons Station

China Lake Co: CA 93555-6100

Landholding Agency: Navy

Property Number: 77200110061

Status: Excess

Comment: 192 sq. ft., most recent use—control station, off-site use only.

Bldg. 32529

Naval Air Weapons Station

China Lake Co: CA 93555-6100

Landholding Agency: Navy

Property Number: 77200110062

Status: Excess

Comment: 300 sq. ft., most recent use—control bldg., off-site use only.

Bldg. 32574

Naval Air Weapons Station

China Lake Co: CA 93555-6100

Landholding Agency: Navy

Property Number: 77200110063

Status: Excess

Comment: most recent use—hazmat pad, off-site use only.

Bldg. 32575

Naval Air Weapons Station

China Lake Co: CA 93555-6100

Landholding Agency: Navy

Property Number: 77200110064

Status: Excess

Comment: most recent use—hazmat pad, off-site use only.

Bldg. 7

Naval Station

San Diego Co: CA 92136-

Landholding Agency: Navy

Property Number: 77200110074

Status: Unutilized

Comment: 47,442 sq. ft., needs rehab, presence of lead paint, most recent use—warehouse, off-site use only.

Bldg. 117

Naval Station

San Diego Co: CA 92136-

Landholding Agency: Navy

Property Number: 77200110075

Status: Unutilized

Comment: 17,682 sq. ft., needs rehab, most recent use—machine shop, off-site use only.

Bldg. 149

Naval Station

San Diego Co: CA 92136-

Landholding Agency: Navy

Property Number: 77200110076

Status: Unutilized

Comment: 1617 sq. ft., needs rehab, most recent use—storage, off-site use only.

Bldg. 245

Naval Station

San Diego Co: CA 92136-

Landholding Agency: Navy

Property Number: 77200110077

Status: Unutilized

Comment: 1200 sq. ft., needs rehab, presence of asbestos/lead paint, most recent use—valve shop, off-site use only.

Bldg. 3123

Naval Station

San Diego Co: CA 92136-

Landholding Agency: Navy

Property Number: 77200110078

Status: Unutilized

Comment: 3360 sq. ft., needs rehab, presence of asbestos, most recent use—cafeteria, off-site use only.

Bldg. 3327

Naval Station

San Diego Co: CA 92136-

Landholding Agency: Navy

Property Number: 77200110079

Status: Unutilized

Comment: 240 sq. ft., needs rehab, presence of lead paint, most recent use—flame spray, off-site use only.

Bldg. 3442

Naval Station

San Diego Co: CA 92136-

Landholding Agency: Navy

Property Number: 77200110080

Status: Unutilized

Comment: 1080 sq. ft., needs rehab, most recent use—picnic canopy, off-site use only.

Bldg. 3482

Naval Station

San Diego Co: CA 92136-

Landholding Agency: Navy

Property Number: 77200110081

Status: Unutilized

Comment: 280 sq. ft., needs rehab, off-site use only.

Connecticut

Bldgs. 31, 78, 91

Naval Submarine Base

New London

Groton Co: New London CT 06349-

Landholding Agency: Navy

Property Number: 77200030055

Status: Unutilized

Comment: total sq. ft. = 41,809, presence of asbestos, most recent use—storage/training/repair, off-site use only.

Bldg. 406

Naval Submarine Base

New London

Groton Co: New London CT 06349-

Landholding Agency: Navy

Property Number: 77200030056

Status: Unutilized

Comment: 13,546 sq. ft., needs rehab, presence of asbestos, most recent use—shop, off-site use only.

Bldg. 392

Naval Sub Base New London

Groton Co: CT 06349-

Landholding Agency: Navy

Property Number: 77200030065

Status: Unutilized

Comment: 996 sq. ft., needs repair, possible asbestos/lead paint, most recent use—storage, off-site use only.

Hawaii

Bldg. S87, Radio Trans. Fac.

Lualualei, Naval Station, Eastern Pacific

Wahiawa Co: Honolulu HI 96786-3050

Landholding Agency: Navy

Property Number: 77199240011

Status: Unutilized

Comment: 7566 sq. ft., 1-story, needs rehab, most recent use—storage, off-site use only.

Bldg. 64, Radio Trans Facility

Naval Computer & Telecommunications Area

Wahiawa Co: Honolulu HI 96786-3050

Landholding Agency: Navy

Property Number: 77199310004

Status: Unutilized

Comment: 3612 sq. ft., 1 story, access restrictions, needs rehab, most recent use—storage, off-site use only.

Bldg. 442, Naval Station

Ford Island

Pearl Harbor Co: Honolulu HI 96860-

Landholding Agency: Navy

Property Number: 77199630088

Status: Excess

Comment: 192 sq. ft., most recent use—storage, off-site use only.

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible.

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible.

Bldg. 219

Naval Station, Ford Island

Pearl Harbor Co: Honolulu HI 96860-

Landholding Agency: Navy

Property Number: 77199640041

Status: Unutilized

Comment: 620 sq. ft., most recent use—damage control, off-site use only, relocation may not be feasible.

Bldg. 220

Naval Station, Ford Island

Pearl Harbor Co: Honolulu HI 96860-

Landholding Agency: Navy

Property Number: 77199640042

Status: Unutilized

Comment: 620 sq. ft., most recent use—damage control, off-site use only, relocation may not be feasible.

Bldg. 160

Naval Station, Pearl Harbor

Pearl Harbor Co: Honolulu HI 96860-

Landholding Agency: Navy

Property Number: 77199840002

Status: Excess

Comment: 6070 sq. ft., needs rehab, presence of lead paint, most recent use—storage/office, off-site use only.

Illinois

Milo Comm. Tower Site

350 N. Rt. 8

Milo Co: Bureau IL 56142-

Landholding Agency: GSA

Property Number: 54200020018

Status: Excess

Comment: 120 sq. ft. cinder block bldg.

GSA Number: 1-D-IL-795.

LaSalle Comm. Tower Site

1600 NE 8th St.

Richland Co: LaSalle IL 61370-

Landholding Agency: GSA

Property Number: 54200020019

Status: Excess

Comment: 120 sq. ft. cinder block bldg. and a 300' tower GSA Number: 1-D-IL-724.

Army Reserve Center

PVT Perry F. Modrow

5020 State Street

E. St. Louis Co: St. Clair IL 62205-1398

Landholding Agency: GSA

Property Number: 54200030001

Status: Excess

Comment: 16,300 sq. ft. training center & 2656 sq. ft. garage, presence of lead paint

GSA Number: 1-D-IL-726.

Indiana

Bldg. 105, VAMC

East 38th Street

Marion Co: Grant IN 46952-

Landholding Agency: VA

Property Number: 97199230006

Status: Excess

Comment: 310 sq. ft., 1 story stone structure, no sanitary or heating facilities, Natl Register of Historic Places.

Bldg. 140, VAMC

East 38th Street

Marion Co: Grant IN 46952-

Landholding Agency: VA

Property Number: 97199230007

Status: Excess

Comment: 60 sq. ft., concrete block bldg., most recent use—trash house.

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places.

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places.

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places.

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places.

Bldg. 25

VA Northern Indiana Health Care System

Marion Campus, 1700 East 38th Street

Marion Co: Grant IN 46953-

Landholding Agency: VA

Property Number: 97199810005

Status: Unutilized

Comment: 32,892 sq. ft., presence of asbestos, most recent use—psychiatric ward, National Register of Historic Places.

Maine

Bldg. 4

Naval Air Station

Brunswick Co: ME 04011-

Landholding Agency: Navy

Property Number: 77199930005

Status: Excess

Comment: 16,644 sq. ft., presence of asbestos/lead paint, most recent use—headquarters building, off-site use only.

Bldg. 8

Naval Air Station

Brunswick Co: ME 04011-

Landholding Agency: Navy

Property Number: 77199930006

Status: Excess

Comment: 7413 sq. ft., presence of asbestos/lead paint, most recent use—public works building, off-site use only.

Bldg. 12

Naval Air Station

Brunswick Co: ME 04011-

Landholding Agency: Navy

Property Number: 77199930007

Status: Excess

Comment: 25,354 sq. ft., presence of asbestos/lead paint, most recent use—admin., off-site use only.

Bldg. 41

Naval Air Station

Brunswick Co: ME 04011-

Landholding Agency: Navy

Property Number: 77199930008

Status: Excess

Comment: 10,526 sq. ft., presence of asbestos/lead paint, most recent use—security building, off-site use only.

Maryland

Bldg. 139

Naval Surface Warfare Center

Carderock Division

West Bethesda Co: Montgomery MD 20817-5700

Landholding Agency: Navy

Property Number: 77200010032

Status: Unutilized

Comment: 4950 sq. ft., possible asbestos/lead paint, most recent use—wind tunnel, off-site use only.

Minnesota

GAP Filler Radar Site

St. Paul Co: Rice MN 55101-

Landholding Agency: GSA

Property Number: 54199910009

Status: Excess

Comment: 1266 sq. ft., concrete block, presence of asbestos/lead paint, most recent use—storage, zoning requirements.

GSA Number: 1-GR(1)-MN-475.

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement.

GSA Number: 7-G-MO-637.

Natl Weather Svc Ofc

4100 Mexico Road

St. Peters Co: St. Charles MO 00000-

Landholding Agency: GSA

Property Number: 54200020015

Status: Excess

Comment: 4774 sq. ft., presence of asbestos, good condition, most recent use—office.

GSA Number: 7-C-MO-641.

New Hampshire

Bldg. 128

Portsmouth Naval Shipyard

Portsmouth NH 03804-5000

Landholding Agency: Navy

Property Number: 77199830015

Status: Excess

Comment: 10,900 sq. ft., needs rehab, presence of asbestos, most recent use—storage, off-site use only.

Bldg. 185

Portsmouth Naval Shipyard

Portsmouth NH 03804-5000

Landholding Agency: Navy

Property Number: 77199830016

Status: Excess

Comment: 2310 sq. ft., needs rehab, presence of asbestos, most recent use—office, off-site use only.

Bldg. 314

Portsmouth Naval Shipyard

Portsmouth NH 03804-5000

Landholding Agency: Navy

Property Number: 77199830017

Status: Excess

Comment: cement block bldg., needs rehab, presence of asbestos, most recent use—storage, off-site use only.

Bldg. 336

Portsmouth Naval Shipyard

Portsmouth NH 03804-5000

Landholding Agency: Navy

Property Number: 77199830018

Status: Excess

Comment: metal bldg w/cement block foundation, off-site use only.

Bldg. 160

Portsmouth Naval Shipyard

Portsmouth Co: NH 03804-5000

Landholding Agency: Navy

Property Number: 77199910046

Status: Unutilized

Comment: 6080 sq. ft., possible asbestos, most recent use—storage, off-site use only.

Bldg. 179

Portsmouth Naval Shipyard

Portsmouth Co: NH 03804-5000

Landholding Agency: Navy

Property Number: 77200020099

Status: Excess

Comment: 1452 sq. ft., needs rehab, presence of asbestos/lead paint, most recent use—quarters, off-site use only.

Bldg. 201

Portsmouth Naval Shipyard

Portsmouth Co: NH 03804-5000

Landholding Agency: Navy

Property Number: 77200020100

Status: Excess

Comment: 450 sq. ft., presence of asbestos/lead paint, off-site use only.

Bldg. 304

Portsmouth Naval Shipyard

Portsmouth Co: NH 03804-5000

Landholding Agency: Navy

Property Number: 77200020101

Status: Excess

Comment: 1320 sq. ft., presence of asbestos/lead paint, most recent use—garb. house, off-site use only.

Bldg. 10

Portsmouth Naval Shipyard

Portsmouth Co: NH 03804-5000

Landholding Agency: Navy

Property Number: 77200030018

Status: Excess

Comment: 12,000 sq. ft., presence of asbestos/lead paint, most recent use—shop facility, off-site use only.

Bldg. 239

Portsmouth Naval Shipyard

Portsmouth Co: NH 03804-5000

Landholding Agency: Navy

Property Number: 77200030019

Status: Excess

Comment: 897 sq. ft., presence of asbestos/lead paint, off-site use only.

New Jersey

Old Bridge Housing

Route 9

Old Bridge Co: NJ 08857-

Landholding Agency: GSA

Property Number: 54199940010

Status: Excess

Comment: 12 three bedroom housing units, no long-term wastewater treatment system for property, presence of asbestos/lead paint, needs repair

GSA Number: 0-0-NJ-000.

Holmdel Housing Site

Telegraph Hill Road

Holmdel Co: Monmouth NJ 07733-

Landholding Agency: GSA

Property Number: 54200040005

Status: Excess

Comment: 12 housing units on 5.59 acres, 1196 sq. ft. each, extreme disrepair

GSA Number: 1-N-NJ-622.

Bldg. D1-A

Naval Weapons Station

Colts Neck Co: NJ 07722-

Landholding Agency: Navy

Property Number: 77199940024

Status: Unutilized

Comment: 1134 sq. ft., presence of lead paint, most recent use—smokehouse/lunchroom, off-site use only.

Bldg. HA-1A

Naval Weapons Station

Colts Neck Co: NJ 07722-

Landholding Agency: Navy

Property Number: 77199940025

Status: Unutilized

Comment: 120 sq. ft., most recent use—storage, off-site use only.

Bldg. C-16

Naval Weapons Station

Colts Neck Co: Earle NJ 07722-

Landholding Agency: Navy

Property Number: 77200010014

Status: Unutilized

Comment: 34,811 sq. ft., presence of asbestos/lead paint, off-site use only.

Bldg. C-25

Naval Weapons Station

Colts Neck Co: Earle NJ 07722-

Landholding Agency: Navy

Property Number: 77200010015

Status: Unutilized

Comment: 4,448 sq. ft., presence of asbestos/lead paint, off-site use only.

Bldg. C-40

Naval Weapons Station

Colts Neck Co: Earle NJ 07722-

Landholding Agency: Navy

Property Number: 77200010016

Status: Unutilized

Comment: 6,924 sq. ft., presence of asbestos/lead paint, off-site use only.

Bldg. 511

Naval Weapons Station

Colts Neck Co: Earle NJ 07722-

Landholding Agency: Navy

Property Number: 77200010017

Status: Unutilized

Comment: 1,871 sq. ft., presence of asbestos/lead paint, off-site use only.

Bldgs. 553, 554, 555

Naval Weapons Station

Colts Neck Co: Earle NJ 07722-

Landholding Agency: Navy

Property Number: 77200010018

Status: Unutilized

Comment: guard towers, off-site use only.

Bldg. 557

Naval Weapons Station

Colts Neck Co: Earle NJ 07722-

Landholding Agency: Navy

Property Number: 77200010019

Status: Unutilized

Comment: 9,670 sq. ft., presence of asbestos/lead paint, off-site use only.

New York

“Terry Hill”

County Road 51

Manorville NY

Landholding Agency: GSA

Property Number: 54199830008

Status: Surplus

Comment: 2 block structures, 780/272 sq. ft., no sanitary facilities, most recent use—storage/comm. facility, w/6.19 acres in fee and 4.99 acre easement, remote area

GSA Number: 1-D-NY-864.

Binghampton Depot

Nolans Road

Binghampton Co: NY 00000-

Landholding Agency: GSA

Property Number: 54199910015

Status: Excess

Comment: 45,977 sq. ft., needs repair, presence of asbestos, most recent use—office

GSA Number: 1-G-NY-760A.

Naval Reserve Center

Frankfort Co: Herkimer NY

Landholding Agency: GSA

Property Number: 54200040006

Status: Excess

Comment: 23,800 sq. ft., brick, good condition, most recent use—training center

GSA Number: 1-D-NY-874.

Pennsylvania

Uniontown Fed. Bldg.

34 West Peter Street

Uniontown Co: Fayette PA 15401-3336

Landholding Agency: GSA

Property Number: 54200110009

Status: Excess

Comment: 24,031 sq. ft., office space, possible lead paint/asbestos, historic property

GSA Number: 4-G-PA-789.

Bldg. 38

Naval Support Activity

Philadelphia Co: PA 19111-5098

Landholding Agency: Navy

Property Number: 77200010020

Status: Unutilized

Comment: 6525 sq. ft., metal butler bldg., needs rehab, presence of asbestos/lead paint, off-site use only.

Bldg. 5

Navy Surface Warfare Center

Philadelphia Co: PA 19112-

Landholding Agency: Navy

Property Number: 77200030071

Status: Unutilized

Comment: 286,824 sq. ft., needs rehab, presence of asbestos, most recent use—warehouse, off-site use only.

Bldg. 47

Navy Surface Warfare Center

Philadelphia Co: PA 19112-

Landholding Agency: Navy

Property Number: 77200030072

Status: Unutilized

Comment: 16,343 sq. ft., presence of asbestos, most recent use—office, off-site use only.

Bldg. 55

Navy Surface Warfare Center

Philadelphia Co: PA 19112-

Landholding Agency: Navy

Property Number: 77200030073

Status: Unutilized

Comment: 5603 sq. ft., needs repair, presence of asbestos, most recent use—store, off-site use only.

Bldg. 531

Navy Surface Warfare Center

Philadelphia Co: PA 19112-

Landholding Agency: Navy

Property Number: 77200030074

Status: Unutilized

Comment: 5102 sq ft., presence of asbestos, most recent use—office, off-site use only.

Bldg. 996

Navy Surface Warfare Center

Philadelphia Co: PA 19112-

Landholding Agency: Navy

Property Number: 77200030075

Status: Unutilized

Comment: 1800 sq. ft., presence of asbestos, most recent use—storage, off-site use only.

Bldg. 25—VA Medical Center

Delafield Road

Pittsburgh Co: Allegheny PA 15215-

Landholding Agency: VA

Property Number: 97199210001

Status: Unutilized

Comment: 133 sq. ft., one story brick guard house, needs rehab.

Bldg. 3, VAMC

1700 South Lincoln Avenue

Lebanon Co: Lebanon PA 17042-

Landholding Agency: VA

Property Number: 97199230012

Status: Underutilized

Comment: portion of bldg. (4046 sq. ft.), most recent use—storage, second floor—lacks elevator access.

Rhode Island

Bldg. 1

Old Naval Hospital

One Riggs Road

Newport Co: RI 02841-

Landholding Agency: Navy

Property Number: 77200010022

Status: Unutilized

Comment: 49,189 sq. ft., presence of asbestos/lead paint, needs major repair, NEPA requirements, boiler plant which provides heat and hot water to bldg. will be shut down.

Bldg. K-61

Naval Station

Newport Co: RI 02841-

Landholding Agency: Navy

Property Number: 77200030079

Status: Unutilized

Comment: 32,836 sq. ft., presence of asbestos/lead paint, most recent use—office, off-site use only.

Bldg. 685

Naval Station

Middletown Co: Newport RI 02842-

Landholding Agency: Navy

Property Number: 77200030080

Status: Unutilized

Comment: 25,090 sq. ft., needs rehab, presence of asbestos/lead paint, most recent use—navy lodge, off-site use only.

Virginia

Bldg. CEP-6

Naval Station

Norfolk Co: VA 23511-

Landholding Agency: Navy

Property Number: 77200030063

Status: Excess

Comment: 1056 sq. ft., most recent use—storage, off-site use only.

Bldg. CEP-210

Naval Station

Norfolk Co: VA 23511-

Landholding Agency: Navy

Property Number: 77200030064

Status: Excess

Comment: 2346 sq. ft., off-site use only.

Wisconsin

Bldg. 8

VA Medical Center

County Highway E

Tomah Co: Monroe WI 54660-

Landholding Agency: VA

Property Number: 97199010056

Status: Underutilized

Comment: 2200 sq. ft., 2 story wood frame, possible asbestos, potential utilities, structural deficiencies, needs rehab.

Land (by State)

Alabama

VA Medical Center

VAMC

Tuskegee Co: Macon AL 36083-

Landholding Agency: VA

Property Number: 97199010053

Status: Underutilized

Comment: 40 acres, buffer to VA Medical Center, potential utilities, undeveloped.

Arkansas

7 acres

Army Reserve

Installation 05572

West Memphis Co: Crittenden AR 72301-

Landholding Agency: GSA

Property Number: 54200040003

Status: Surplus

Comment: 7 acres, subject to existing easements

GSA Number: 7-D-AR-0557

California

Land

4150 Clement Street

San Francisco Co: San Francisco CA 94121-

Landholding Agency: VA

Property Number: 97199240001

Status: Underutilized

Comment: 4 acres; landslide area.

Idaho

25′ x 100′ Site

1520 N St. & 2290 E St.

Rogerson Co: Twin Falls ID 00000-

Landholding Agency: GSA

Property Number: 54200010007

Status: Unutilized

Comment: lot too small to meet minimum size for residence, zoning/agriculture, no sewer service

GSA Number: 9-A-ID-545.

Iowa

40.66 acres

VA Medical Center

1515 West Pleasant St.

Knoxville Co: Marion IA 50138-

Landholding Agency: VA

Property Number: 97199740002

Status: Unutilized

Comment: golf course, easement requirements.

Maryland

VA Medical Center

9500 North Point Road

Fort Howard Co: Baltimore MD 21052-

Landholding Agency: VA

Property Number: 97199010020

Status: Underutilized

Comment: Approx. 10 acres, wetland and periodically floods, most recent use—dump site for leaves.

Nebraska

0.34 acres

Offutt AFB

adjacent to 36th St.

Bellevue Co: Sarpy NE 68113-

Landholding Agency: GSA

Property Number: 54200040002

Status: Surplus

Comment: 0.34 acres, subject to existing easements

GSA Number: 7-D-NE-0527.

Ohio

Jersey Tower Site

Tract No. 100 & 100E

Jersey Co: Licking OH 00000-

Landholding Agency: GSA

Property Number: 54199910013

Status: Surplus

Comment: 4.24 acres, subject to preservation of wetlands

GSA Number: 1-W-OH-813.

Licking County Tower Site

Summit & Haven Corner Rds.

Pataskala Co: Licking OH 43062-

Landholding Agency: GSA

Property Number: 54200020021

Status: Excess

Comment: Parcel 100 = 3.67 acres, Parcel 100E = 0.57 acres

GSA Number: 1-W-OH-813.

Pennsylvania

Gwen Site #868

Bonneauville

Smith Road

Gettysburg Co: Adams PA

Landholding Agency: GSA

Property Number: 54200040007

Status: Surplus

Comment: 13.85 acres, most recent use—to support communication

GSA Number: 4-D-PA-0788.

Texas

Land

Olin E. Teague Veterans Center

1901 South 1st Street

Temple Co: Bell TX 76504-

Landholding Agency: VA

Property Number: 97199010079

Status: Underutilized

Comment: 13 acres, portion formerly landfill, portion near flammable materials, railroad crosses property, potential utilities.

Virginia

Land

Marine Corps Base

Quantico Co: VA 22134-

Landholding Agency: Navy

Property Number: 77200040034

Status: Unutilized

Comment: 4900 sq. ft. open space.

Wisconsin

VA Medical Center

County Highway E

Tomah Co: Monroe WI 54660-

Landholding Agency: VA

Property Number: 97199010054

Status: Underutilized

Comment: 12.4 acres, serves as buffer between center and private property, no utilities.

Wyoming

Flying J

Shoshone Project

Park Co: WY 82414-

Landholding Agency: GSA

Property Number: 54200020022

Status: Excess

Comment: approx. 46.35 acres, no utilities, most recent use—oil refinery.

GSA Number: 7-1-WY-0539A.

Suitable/Unavailable Properties

Buildings (by State)

Alabama

Residence 1223

204 Akin Drive

Tuskegee Co: Macon AL 36083-

Landholding Agency: GSA

Property Number: 54200020023

Status: Excess

Comment: 1375 sq. ft., brick veneer, most recent use—residential.

GSA Number: 4-A-AL-768.

California

112 Bldgs.—Skaggs Island

Naval Security Group

Skaggs Island Co: Sonoma CA

Landholding Agency: GSA

Property Number: 54199730001

Status: Excess

Comment: 32-13,374 sq. ft., temp. quonset huts to perm. wood/concrete most recent use—housing, admin., support facilities, remote location, below sea level, high maintenance.

GSA Number: 9-N-CA-1488.

Marine Culture Laboratory

Granite Canyon

34500 Coast Highway

Monterey CA 93940-

Landholding Agency: GSA

Property Number: 54199830011

Status: Surplus

Comment: 3297 sq. ft. office bldg. & lab on 4.553 acres, envir. clean-up plans scheduled.

GSA Number: 9-C-CA-1499.

Natl Weather Svc Station

Blue Canyon Airport

Emigrant Gap CA 95715-

Landholding Agency: GSA

Property Number: 54199840007

Status: Surplus

Comment: 3140 sq. ft., presence of asbestos, most recent use—ofc/ residential/storage, land agreements w/U.S. Forest Service exist, special use permit.

GSA Number: 9-C-CA-1521.

Naval & Marine Corps Readiness

1700 Stadium Way

Los Angeles Co: Los Angeles CA 90012-

Landholding Agency: GSA

Property Number: 54199910005

Status: Excess

Comment: 133,484 sq. ft., suffered seismic damage, presence of asbestos/lead paint, historic convenants, 45% of property will revert to City.

GSA Number: 9-N-CA-1523.

Eureka Federal Building

5th & H Streets

Eureka Co: CA 95501-

Landholding Agency: GSA

Property Number: 54199930024

Status: Surplus

Comment: 23,959 gross sq. ft., needs rehab, presence of asbestos/lead paint, most recent use—post office/office, listed on the National Register of Historic Places.

GSA Number: 9-G-CA-1529.

Georgia

Federal Building

109 N. Main Street

Lafayette Co: Walker GA 30728-

Landholding Agency: GSA

Property Number: 54199910014

Status: Excess

Comment: approx. 4761 sq. ft., does not meeet ADA requirements for accessibility, easements/reservations restrictions, historic protective covenants.

GSA Number: 4-G-GA-858.

Illinois

Radar Communication Link

1/2 mi east of 116th St.

Co: Will IL

Landholding Agency: GSA

Property Number: 54199820013

Status: Excess

Comment: 297 sq. ft. concrete block bldg. with radar tower antenna, possible lead based paint, most recent use—air traffic control.

GSA Number: 2-U-IL-696.

Army Reserve Center

1881 East Fremont Street

Galesburg Co: Knox IL 61401-

Landholding Agency: GSA

Property Number: 54199940008

Status: Excess

Comment: 2 brick buildings (6117 & 1325 sq. ft.), utilities turned off, need repairs, most recent use—storage.

GSA Number: 1-D-IL-720.

Indiana

Bldg. 24, VAMC

East 38th Street

Marion Co: Grant IN 46952-

Landholding Agency: VA

Property Number: 97199230005

Status: Underutilized

Comment: 4135 sq. ft. 2-story wood structure, needs minor rehab, no sanitary or heating facilities, presence of asbestos, Natl Register of Historic Places.

Bldg. 122

VA Northern Indiana Health Care System

Marion Campus, 1700 East 38th Street

Marion Co: Grant IN 46953-

Landholding Agency: VA

Property Number: 97199810006

Status: Unutilized

Comment: 37,135 sq. ft., presence of asbestos, most recent use—former dietetics bldg., National Register of Historic Places.

Maryland

Washington Court Apartments

Maryland Rt. 755

Edgewood Co: Harford MD 21040-

Landholding Agency: GSA

Property Number: 54199940005

Status: Excess

Comment: 55 bldgs. housing 276 apartments, (2 to 4 bedrooms), need repairs, presence of lead based paint, property published in error as available on 2/11/00.

GSA Number: 4-D-MD-559.

De LaSalle Bldg.

4900 LaSalle Road

Avondale Co: Prince George MD 20782-

Landholding Agency: GSA

Property Number: 54200020007

Status: Excess

Comment: 130,000 sq. ft., multi-story on 17.79 acres, extensive rehab required, presence of asbestos/lead paint/pigeon infestation, subj. to easements, eligible for Natl Register.

GSA Number: 4-G-MD-565A.

Cheltenham Naval Comm. Dtchmt.

9190 Commo Rd., AKA 7700 Redman Rd.

Clinton Co: Prince George MD 20397-5520

Landholding Agency: GSA

Property Number: 77199330010

Status: Excess

Comment: 32 bldgs., various sq. ft., most recent use—admin/comm, & 39 family housing units on 230.35 acres, presence of lead paint/asbestos, 20.09 acres leased to County w/improvements; GSA Number : 4-N-MD-544A.

Michigan

Detroit Job Corps Center

10401 E. Jefferson & 1438 Garland; 1265 St. Clair

Detroit Co: Wayne MI 42128-

Landholding Agency: GSA

Property Number: 54199510002

Status: Surplus

Comment: Main bldg. is 80,590 sq. ft., 5-story, adjacent parking lot, 2nd bldg. on St. Clair Ave. is 5140 sq. ft., presence of asbestos in main bldg., to be vacated 8/97; GSA Number : 2-L-MI-757.

Parcel 1

Old Lifeboat Station

East Tawas Co: Iosco MI

Landholding Agency: GSA

Property Number: 54199730011

Status: Excess

Comment: 2062 sq. ft. station bldg., garage, boathouse, oilhouse, possible asbestos/lead paint, eligible for listing on National Register of Historic Places; GSA Number: 1-UU-MI-500.

Minnesota

MG Clement Trott Mem. USARC

Walker Co: Cass MN 56484-

Landholding Agency: GSA

Property Number: 54199930003

Status: Excess

Comment: 4320 sq. ft. training center and 1316 sq. ft. vehicle maintenance shop, presence of environmental conditions; GSA Number: 1-D-MN-575.

Mississippi

Federal Building

236 Sharkey Street

Clarksdale Co: Coahoma MS 38614-

Landholding Agency: GSA

Property Number: 54199910004

Status: Excess

Comment: 15,233 sq. ft., courthouse; GSA Number: 4-G-MS-553.

Montana

VA MT Healthcare

210 S. Winchester

Miles City Co: Custer MT 59301-

Landholding Agency: VA

Property Number: 97200030001

Status: Underutilized

Comment: 18 buildings, total sq. ft. = 123,851, presence of asbestos, most recent use—clinic/office/food production.

North Carolina

Tarheel Army Missile Plant

Burlington Co: Alamance NC 27215-

Landholding Agency: GSA

Property Number: 54199820002

Status: Excess

Comment: 31 bldgs., presence of asbestos, most recent use—admin., warehouse, production space and 10.04 acres parking area, contamination at site—environmental clean up in process; GSA Number : 4-D-NC-593.

Vehicle Maint. Facility

310 New Bern Ave.

Raleigh Co: Wake NC 27601-

Landholding Agency: GSA

Property Number: 54200020012

Status: Excess

Comment: 10,455 sq. ft., most recent use—maintenance garage; GSA Number: NC076AB.

Goldsboro Federal Bldg.

134 North John Street

Goldsboro Co: Wayne NC 27530-

Landholding Agency: GSA

Property Number: 54200020016

Status: Excess

Comment: 24,492 sq. ft., presence of asbestos/lead paint.

GSA Number: 4-G-NC-736.

Ohio

Zanesville Federal Building

65 North Fifth Street

Zanesville Co: Muskingum OH

Landholding Agency GSA

Property Number: 54199520018

Status: Excess

Comment: 18750 sq. ft., most recent use—office, possible asbestos, eligible for listing on the Natl Register of Historic Places.

GSA Number: 2-G-OH-781A.

Oklahoma

Fed. Bldg./Courthouse

N. Washington & Broadway Streets

Ardmore Co: Carter OK 73402-

Landholding Agency: GSA

Property Number: 54199820009

Status: Excess

Comment: 4000 sq. ft. bldg. w/parking, 3 story plus basement, most recent use—office, subject to historic preservation covenants.

GSA Number: 7-G-TX-559.

Puerto Rico

Bldgs. 501 & 502

U.S. Naval Radio Transmitter Facility

State Road No. 2

Juana Diaz PR 00795-

Landholding Agency: Navy

Property Number: 77199530007

Status: Underutilized

Comment: Reinforced concrete structures, limited access, needs rehab, most recent use—transmitter and power house.

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00.

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighing facilities/dock, potential use restrictions, property was published in error as available on 2/11/00.

GSA Number: 4-D-TN-594F.

200 bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00.

GSA Number: 4-D-TN-594F.

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00.

GSA Number: 4-D-TN-594F.

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00; GSA Number: 4-D-TN-594F.

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00; GSA Number: 4-D-TN-594F.

Naval Hospital

5720 Integrity Drive

Millington Co: Shelby TN 38054-

Location: Bldgs. 98, 100, 103, 105, 111, 114, 116, 117, 118

Landholding Agency: GSA

Property Number: 54200020005

Status: Excess

Comment: 9 bldgs., various sq. ft., need major rehab; GSA Number: 4-N-TN-648.

Virginia

Naval Medical Clinic

6500 Hampton Blvd.

Norfolk Co: Norfolk VA 23508-

Landholding Agency: Navy

Property Number: 77199010109

Status: Unutilized

Comment: 3665 sq ft., 1 story, possible asbestos, most recent use-laundry.

West Virginia

Moundsville Federal Bldg.

7th Street

Moundsville Co: Marshall WV 26041-

Landholding Agency: GSA

Property Number: 54200020024

Status: Excess

Comment: 9674 sq. ft., good condition, presence of asbestos, most recent use—office space; GSA Number: 4-G-WV-535.

Old Post Office

Maple & King Streets

Martinsburg Co: Berkeley WV 25401-

Landholding Agency: GSA

Property Number: 54200030004

Status: Excess

Comment: 22,845 sq. ft., presence of asbestos/lead paint, most recent use—office/storage, included on the Natl Register of Historic Places; GSA Number: 4-G-WV-537.

Former Army Rsv Ctr

201 Kanawha Avenue

Rainelle Co: WV 25962-1107

Landholding Agency: GSA

Property Number: 54200030006

Status: Excess

Comment: needs repair, possible asbestos/lead paint; GSA Number: 4-D-WV-536.

Wisconsin

Wausau Federal Building

317 First Street

Wausau Co: Marathon WI 54401-

Landholding Agency: GSA

Property Number: 54199820016

Status: Excess

Comment: 30,500 sq. ft., presence of asbestos, eligible for listing on the Natl Register of Historic Places, most recent use—office GSA Number: 1-G-WI-593.

Army Reserve Center

401 Fifth Street

Kewaunee Co: WI 54216-1838

Landholding Agency: GSA

Property Number: 54199940004

Status: Excess

Comment: 2 admin. bldgs. (15,593 sq. ft.), 1 garage (1325 sq. ft.), need repairs, property was published in error as available on 2/11/00; GSA Number: 1-D-WI-597.

Bldg. 2

VA Medical Center

5000 West National Ave.

Milwaukee WI 53295-

Landholding Agency: VA

Property Number: 97199830002

Status: Underutilized

Comment: 133,730 sq. ft., needs rehab, presence of asbestos/lead paint, most recent use—storage.

Land (by State)

Arizona

0.322 acres

Madison Street Property

Yuma Co: AZ 00000-

Landholding Agency: GSA

Property Number: 54200020025

Status: Excess

Comment: 14,026 sq. ft., irregular in shape, most recent use—former railroad right-of-way.

GSA Number: 9-I-AZ-814.

Iowa

38 acres

VA Medical Center

1515 West Pleasant St.

Knoxville Co: Marion IA 50138-

Landholding Agency: VA

Property Number: 97199740001

Status: Unutilized

Comment: golf course.

Maryland

12.52 acres

Casson Neck

Cambridge Co: Dorchester MD 00000-

Landholding Agency: GSA

Property Number: 54200020020

Status: Excess

Comment: 12.52 acres, possible restrictions due to wetlands.

GSA Number: 4-U-MD-600A.

Michigan

VA Medical Center

5500 Armstrong Road

Battle Creek Co: Calhoun MI 49016-

Landholding Agency: VA

Property Number: 97199010015

Status: Underutilized

Comment: 20 acres, used as exercise trails and storage areas, potential utilities.

Mississippi

Proposed Site

Army Reserve Center

Waynesboro Co: Wayne MS 39367-

Landholding Agency: GSA

Property Number: 54200010005

Status: Excess

Comment: 7.60 acres, most recent use—pine plantation, periodic flooding, possible wetlands on 30-40% of property.

GSA Number: 4-D-MS-0555.

New York

VA Medical Center

Fort Hill Avenue

Canandaigua Co: Ontario NY 14424-

Landholding Agency: VA

Property Number: 97199010017

Status: Underutilized

Comment: 27.5 acres, used for school ballfield and parking, existing utilities easements, portion leased.

North Carolina

6.45 acres

Portion of McKinney Lake Fish Hatchery

Millstone Church Road

Hoffman Co: Richmond NC 28347-

Landholding Agency: GSA

Property Number: 54200020011

Status: Excess

Comment: 6.45 acres, most recent use—outdoor horticulture classes.

GSA Number: 4-GR-NC-570.

Pennsylvania

VA Medical Center

New Castle Road

Butler Co: Butler PA 16001-

Landholding Agency: VA

Property Number: 97199010016

Status: Underutilized

Comment: Approx. 9.29 acres, used for patient recreation, potential utilities.

Land No. 645

VA. Medical Center

Highland Drive

Pittsburgh Co: Allegheny PA 15206-

Location: Between Campania and Wiltsie Streets.

Landholding Agency: VA

Property Number: 97199010080

Status: Unutilized

Comment: 90.3 acres, heavily wooded, property includes dump area and numerous site storm drain outfalls.

Land—34.16 acres

VA Medical Center

1400 Black Horse Hill Road

Coatesville Co: Chester PA 19320-

Landholding Agency: VA

Property Number: 97199340001

Status: Underutilized

Comment: 34.16 acres, open field, most recent use—recreation/buffer.

Puerto Rico

La Hueca—Naval Station

Roosevelt Roads

Vieques PR 00765-

Landholding Agency: GSA

Property Number: 54199420006

Status: Excess

Comment: 323 acres, cultural site.

Bahia Rear Range Light

Ocean Drive

Catano Co: PR 00632-

Landholding Agency: GSA

Property Number: 54199940003

Status: Excess

Comment: 0.167 w/skeletal tower, fenced, aid to navigation.

GSA Number: 1-T-PR-508.

Tennessee

1500 acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00.

GSA Number: 4-D-TN-594F.

44 acres

VA Medical Center

3400 Lebanon Rd.

Murfreesboro Co: Rutherford TN 37129-

Landholding Agency: VA

Property Number: 97199740003

Status: Underutilized

Comment: intermittent use, partially landlocked, flooding.

Virginia

Naval Base

Norfolk Co: Norfolk VA 23508-

Location: Northeast corner of base, near Willoughby housing area.

Landholding Agency: Navy

Property Number: 77199010156

Status: Unutilized

Comment: 60 acres; most recent use—sandpit; secured area with alternate access.

Land—CD area

Naval Base Norfolk

Norfolk VA 23511-2797

Landholding Agency: Navy

Property Number: 77199830022

Status: Unutilized

Comment: 2 acres, open space.

Suitable/To Be Excessed

Buildings (by State)

Puerto Rico

Bldg. 561

Former Ramey AFB

Aguadilla PR 00604-

Landholding Agency: Navy

Property Number: 77199630001

Status: Unutilized

Comment: 102666 sq. ft. bldg. on 5.006 acres, most recent use—manufacturing, office and freight distribution center, presence of asbestos.

Unsuitable Properties

Buildings (by State)

Alabama

Sand Island Light House

Gulf of Mexico

Mobile AL

Landholding Agency: GSA

Property Number: 54199610001

Status: Excess

Reason: Inaccessible.

GSA Number: 4-U-AL-763.

Mobile Point Light

Gulf Shores Co: Baldwin AL 36542-

Landholding Agency: GSA

Property Number: 54199940011

Status: Excess

Reason: Within 2000 ft. of flammable or explosive material.

GSA Number: 4-U-AL-767.

Bldg. 7

VA Medical Center

Tuskegee Co: Macon AL 36083-

Landholding Agency: VA

Property Number: 97199730001

Status: Underutilized

Reason: Secured Area.

Bldg. 8

VA Medical Center

Tuskegee Co: Macon AL 36083-

Landholding Agency: VA

Property Number: 97199730002

Status: Underutilized

Reason: Secured Area.

Arizona

Portion

Colorado River Basin

Salinity Project

Yuma Co: AZ 00000-

Landholding Agency: GSA

Property Number: 54200030005

Status: Surplus

Reason: Secured Area.

GSA Number: 9-I-AZ-810.

Bldg. 958

Marine Corps Air Station

Yuma Co: AZ 85369-

Landholding Agency: Navy

Property Number: 77200040001

Status: Excess

Reason: Extensive deterioration.

Bldg. 1216

Marine Corps Air Station

Yuma Co: AZ 85369-

Landholding Agency: Navy

Property Number: 77200040002

Status: Excess

Reason: Extensive deterioration.

Bldg. 676

Marine Corps Air Station

Yuma Co: AZ 85369-

Landholding Agency: Navy

Property Number: 77200040003

Status: Excess

Reason: Extensive deterioration.

California

Old SF Mint

88 5th Street

San Francisco Co: CA 94103-

Landholding Agency: GSA

Property Number: 54199910017

Status: Excess

Reason: Extensive deterioration.

GSA Number: 9-G-CA-1531.

Bldg. 210

Naval Station, San Diego

San Diego CA 92136-

Landholding Agency: Navy

Property Number: 77199830001

Status: Excess

Reason: Extensive deterioration.

Bldg. 444

Naval Station

San Diego CA 92136-5294

Landholding Agency: Navy

Property Number: 77199830122

Status: Excess

Reason: Extensive deterioration.

Bldg. 209

Naval Station, San Diego

San Diego CA 92136-5065

Landholding Agency: Navy

Property Number: 77199840001

Status: Excess

Reason: Extensive deterioration.

Bldgs. 20106, 20195

Naval Air Weapons Station

China Lake Co: CA 93555-

Landholding Agency: Navy

Property Number: 77199930001

Status: Excess

Reasons: Secured Area; Extensive deterioration.

Bldgs. 40, 62

Naval Air Station, North Island

Imperial Beach Co: CA 91932-

Landholding Agency: Navy

Property Number: 77199930024

Status: Excess

Reason: Extensive deterioration.

Bldg. 5UT4

Marine Corps Recruit Depot

San Diego Co: CA 92140-

Landholding Agency: Navy

Property Number: 77199930081

Status: Unutilized

Reason: Extensive deterioration.

Bldg. 5US4

Marine Corps Recruit Depot

San Diego Co: CA 92140-

Landholding Agency: Navy

Property Number: 77199930082

Status: Unutilized

Reason: Extensive deterioration.

Bldg. 127

Marine Corps Recruit Depot

San Diego Co: CA 92140-

Landholding Agency: Navy

Property Number: 77199930083

Status: Unutilized

Reason: Extensive deterioration.

Bldg. 5A6

Marine Corps Recruit Depot

San Diego Co: CA 92140-

Landholding Agency: Navy

Property Number: 77199930084

Status: Unutilized

Reason: Extensive deterioration.

Bldg. 5A7

Marine Corps Recruit Depot

San Diego Co: CA 92140-

Landholding Agency: Navy

Property Number: 77199930085

Status: Unutilized

Reason: Extensive deterioration.

Bldg. 5A8

Marine Corps Recruit Depot

San Diego Co: CA 92140-

Landholding Agency: Navy

Property Number: 77199930086

Status: Unutilized

Reason: Extensive deterioration.

Bldg. 5A9

Marine Corps Recruit Depot

San Diego Co: CA 92140-

Landholding Agency: Navy

Property Number: 77199930087

Status: Unutilized

Reason: Extensive deterioration.

Bldg. 5B6

Marine Corps Recruit Depot

San Diego Co: CA 92140-

Landholding Agency: Navy

Property Number: 77199930088

Status: Unutilized

Reason: Extensive deterioration.

Bldg. 5B7

Marine Corps Recruit Depot

San Diego Co: CA 92140-

Landholding Agency: Navy

Property Number: 77199930089

Status: Unutilized

Reason: Extensive deterioration.

Bldg. 5B8

Marine Corps Recruit Depot

San Diego Co: CA 92140-

Landholding Agency: Navy

Property Number: 77199930090

Status: Unutilized

Reason: Extensive deterioration.

Bldg. 5B9

Marine Corps Recruit Depot

San Diego Co: CA 92140-

Landholding Agency: Navy

Property Number: 77199930091

Status: Unutilized

Reason: Extensive deterioration.

Bldg. 5C6

Marine Corps Recruit Depot

San Diego Co: CA 92140-

Landholding Agency: Navy

Property Number: 77199930092

Status: Unutilized

Reason: Extensive deterioration.

Bldg. 5C7

Marine Corps Recruit Depot

San Diego Co: CA 92140-

Landholding Agency: Navy

Property Number: 77199930093

Status: Unutilized

Reason: Extensive deterioration.

Bldg. 5C8

Marine Corps Recruit Depot

San Diego Co: CA 92140-

Landholding Agency: Navy

Property Number: 77199930094

Status: Unutilized

Reason: Extensive deterioration.

Bldg. 5C9

Marine Corps Recruit Depot

San Diego Co: CA 92140-

Landholding Agency: Navy

Property Number: 77199930095

Status: Unutilized

Reason: Extensive deterioration.

Bldg. 5D1

Marine Corps Recruit Depot

San Diego Co: CA 92140-

Landholding Agency: Navy

Property Number: 77199930096

Status: Unutilized

Reason: Extensive deterioration.

Bldg. 5D2

Marine Corps Recruit Depot

San Diego Co: CA 92140-

Landholding Agency: Navy

Property Number: 77199930097

Status: Unutilized

Reason: Extensive deterioration.

Bldg. 5D3

Marine Corps Recruit Depot

San Diego Co: CA 92140-

Landholding Agency: Navy

Property Number: 77199930098

Status: Unutilized

Reason: Extensive deterioration.

Bldg. 5D4

Marine Corps Recruit Depot

San Diego Co: CA 92140-

Landholding Agency: Navy

Property Number: 77199930099

Status: Unutilized

Reason: Extensive deterioration.

Bldg. 5D5

Marine Corps Recruit Depot

San Diego Co: CA 92140-

Landholding Agency: Navy

Property Number: 77199930100

Status: Unutilized

Reason: Extensive deterioration.

Bldg. 206

Naval Weapons Station Seal Beach

Seal Beach Co: CA 90740-5000

Landholding Agency: Navy

Property Number: 77199930105

Status: Unutilized

Reason: Extensive deterioration.

Bldg. 432

Naval Weapons Station Seal Beach

Seal Beach Co: CA 90740-5000

Landholding Agency: Navy

Property Number: 77199930106

Status: Unutilized

Reason: Extensive deterioration.

Bldg. 433

Naval Weapons Station Seal Beach

Seal Beach Co: CA 90740-5000

Landholding Agency: Navy

Property Number: 77199930107

Status: Unutilized

Reason: Extensive deterioration.

Bldg. 435

Naval Weapons Station Seal Beach

Seal Beach Co: CA 90740-5000

Landholding Agency: Navy

Property Number: 77199930108

Status: Unutilized

Reason: Extensive deterioration.

Bldg. 456

Naval Weapons Station Seal Beach

Seal Beach Co: CA 90740-5000

Landholding Agency: Navy

Property Number: 77199930109

Status: Unutilized

Reason: Extensive deterioration.

Bldg. 921

Naval Weapons Station Seal Beach

Seal Beach Co: CA 90740-5000

Landholding Agency: Navy

Property Number: 77199930110

Status: Unutilized

Reason: Extensive deterioration.

Bldg. 201

Naval Weapons Station

Fallbrook Co: CA 92028-3187

Landholding Agency: Navy

Property Number: 77199940002

Status: Unutilized

Reason: Extensive deterioration.

Bldg. 205

Naval Weapons Station

Fallbrook Co: CA 92028-3187

Landholding Agency: Navy

Property Number: 77199940003

Status: Unutilized

Reason: Extensive deterioration.

Bldg. 227

Naval Weapons Station

Fallbrook Co: CA 92028-3187

Landholding Agency: Navy

Property Number: 77199940004

Status: Unutilized

Reason: Extensive deterioration.

Bldg. 230

Naval Weapons Station

Fallbrook Co: CA 92028-3187

Landholding Agency: Navy

Property Number: 77199940005

Status: Unutilized

Reason: Extensive deterioration.

Bldg. 232

Naval Weapons Station

Fallbrook Co: CA 92028-3187

Landholding Agency: Navy

Property Number: 77199940006

Status: Unutilized

Reason: Extensive deterioration.

Bldg. 337

Naval Weapons Station

Fallbrook Co: CA 92028-3187

Landholding Agency: Navy

Property Number: 77199940007

Status: Unutilized

Reason: Extensive deterioration.

Bldg. 338

Naval Weapons Station

Fallbrook Co: CA 92028-3187

Landholding Agency: Navy

Property Number: 77199940008

Status: Unutilized

Reason: Extensive deterioration.

Bldg. 339

Naval Weapons Station

Fallbrook Co: CA 92028-3187

Landholding Agency: Navy

Property Number: 77199940009

Status: Unutilized

Reason: Extensive deterioration.

Bldg. 349

Naval Weapons Station

Fallbrook Co: CA 92028-3187

Landholding Agency: Navy

Property Number: 77199940010

Status: Unutilized

Reason: Extensive deterioration.

Bldg. 362

Naval Weapons Station

Fallbrook Co: CA 92028-3187

Landholding Agency: Navy

Property Number: 77199940011

Status: Unutilized

Reason: Extensive deterioration.

Bldg. 363

Naval Weapons Station

Fallbrook Co: CA 92028-3187

Landholding Agency: Navy

Property Number: 77199940012

Status: Unutilized

Reason: Extensive deterioration.

Bldg. 410

Naval Weapons Station

Fallbrook Co: CA 92028-3187

Landholding Agency: Navy

Property Number: 77199940013

Status: Unutilized

Reason: Extensive deterioration.

Bldg. 438

Naval Weapons Station

Fallbrook Co: CA 92028-3187

Landholding Agency: Navy

Property Number: 77199940014

Status: Unutilized

Reason: Extensive deterioration.

Bldg. Q100

Naval Amphibious Base

Coronado Co: CA 92118-

Landholding Agency: Navy

Property Number: 77199940067

Status: Excess

Reason: Extensive deterioration.

Bldg. Q102

Naval Amphibious Base

Coronado Co: CA 92118-

Landholding Agency: Navy

Property Number: 77199940068

Status: Excess

Reason: Extensive deterioration.

Bldg. 106

Naval Amphibious Base

Coronado Co: CA 92118-

Landholding Agency: Navy

Property Number: 77199940069

Status: Excess

Reason: Extensive deterioration.

Bldg. 111

Naval Amphibious Base

Coronado Co: CA 92118-

Landholding Agency: Navy

Property Number: 77199940070

Status: Excess

Reason: Extensive deterioration.

Bldg. 112

Naval Amphibious Base

Coronado Co: CA 92118-

Landholding Agency: Navy

Property Number: 77199940071

Status: Excess

Reason: Extensive deterioration.

Bldg. 613

NAS, North Island

Coronado Co: CA 92118-

Landholding Agency: Navy

Property Number: 77199940072

Status: Excess

Reason: Extensive deterioration.

Bldg. 55

Naval Amphibious Base

Imperial Beach Co: CA 92118-

Landholding Agency: Navy

Property Number: 77199940073

Status: Excess

Reason: Extensive deterioration.

Bldg. 154

Naval Air Station

North Island Co: CA 92132-

Landholding Agency: Navy

Property Number: 77200010037

Status: Excess

Reason: Extensive deterioration.

OT68

Space & Navy Warfare

Systems Center

San Diego Co: CA 92152-5001

Landholding Agency: Navy

Property Number: 77200010076

Status: Unutilized

Reason: Floodway

Bldg. 1234

Marine Corps Base

Camp Pendleton Co: CA 92055-

Landholding Agency: Navy

Property Number: 77200010077

Status: Excess

Reason: Extensive deterioration.

Bldg. 1439

Marine Corps Base

Camp Pendleton Co: CA 92055-

Landholding Agency: Navy

Property Number: 77200010078

Status: Excess

Reason: Extensive deterioration.

Bldg. 1443

Marine Corps Base

Camp Pendleton Co: CA 92055-

Landholding Agency: Navy

Property Number: 77200010079

Status: Excess

Reason: Extensive deterioration.

Bldg. 2231

Marine Corps Base

Camp Pendleton Co: CA 92055-

Landholding Agency: Navy

Property Number: 77200010080

Status: Excess

Reason: Extensive deterioration.

Bldg. 2232

Marine Corps Base

Camp Pendleton Co: CA 92055-

Landholding Agency: Navy

Property Number: 77200010081

Status: Excess

Reason: Extensive deterioration.

Bldg. 2582

Marine Corps Base

Camp Pendleton Co: CA 92055-

Landholding Agency: Navy

Property Number: 77200010082

Status: Excess

Reason: Extensive deterioration.

Bldg. 2583

Marine Corps Base

Camp Pendleton Co: CA 92055-

Landholding Agency: Navy

Property Number: 77200010083

Status: Excess

Reason: Extensive deterioration.

Bldg. 21544

Marine Corps Base

Camp Pendleton Co: CA 92055-

Landholding Agency: Navy

Property Number: 77200010084

Status: Excess

Reason: Extensive deterioration.

Bldg. 21549

Marine Corps Base

Camp Pendleton Co: CA 92055-

Landholding Agency: Navy

Property Number: 77200010085

Status: Excess

Reason: Extensive deterioration.

Bldg. 25131

Marine Corps Base

Camp Pendleton Co: CA 92055-

Landholding Agency: Navy

Property Number: 77200010086

Status: Excess

Reason: Extensive deterioration.

Bldg. 32927

Marine Corps Base

Camp Pendleton Co: CA 92055-

Landholding Agency: Navy

Property Number: 77200010087

Status: Excess

Reason: Extensive deterioration.

Bldg. 130167

Marine Corps Base

Camp Pendleton Co: CA 92055-

Landholding Agency: Navy

Property Number: 77200010088

Status: Excess

Reason: Extensive deterioration.

Bldg. 130175

Marine Corps Base

Camp Pendleton Co: CA 92055-

Landholding Agency: Navy

Property Number: 77200010089

Status: Excess

Reason: Extensive deterioration.

Bldg. 201076

Marine Corps Base

Camp Pendleton Co: CA 92055-

Landholding Agency: Navy

Property Number: 77200010090

Status: Excess

Reason: Extensive deterioration.

Bldg. 201487

Marine Corps Base

Camp Pendleton Co: CA 92055-

Landholding Agency: Navy

Property Number: 77200010091

Status: Excess

Reason: Extensive deterioration.

Bldg. 1684

Marine Corps Base

Camp Pendleton Co: CA 92055-

Landholding Agency: Navy

Property Number: 77200010092

Status: Excess

Reason: Extensive deterioration.

Bldg. 16146

Marine Corps Base

Camp Pendleton Co: CA 92055-

Landholding Agency: Navy

Property Number: 77200010093

Status: Excess

Reason: Extensive deterioration.

Bldg. 43332

Marine Corps Base

Camp Pendleton Co: CA 92055-

Landholding Agency: Navy

Property Number: 77200010094

Status: Excess

Reason: Extensive deterioration.

Bldg. 43333

Marine Corps Base

Camp Pendleton Co: CA 92055-

Landholding Agency: Navy

Property Number: 77200010095

Status: Excess

Reason: Extensive deterioration.

Bldg. 43334

Marine Corps Base

Camp Pendleton Co: CA 92055-

Landholding Agency: Navy

Property Number: 77200010096

Status: Excess

Reason: Extensive deterioration.

Bldg. 43335

Marine Corps Base

Camp Pendleton Co: CA 92055-

Landholding Agency: Navy

Property Number: 77200010097

Status: Excess

Reason: Extensive deterioration.

Bldg. 43336

Marine Corps Base

Camp Pendleton Co: CA 92055-

Landholding Agency: Navy

Property Number: 77200010098

Status: Excess

Reason: Extensive deterioration.

Bldg. 43337

Marine Corps Base

Camp Pendleton Co: CA 92055-

Landholding Agency: Navy

Property Number: 77200010099

Status: Excess

Reason: Extensive deterioration.

Bldg. 52651

Marine Corps Base

Camp Pendleton Co: CA 92055-

Landholding Agency: Navy

Property Number: 77200010100

Status: Excess

Reason: Extensive deterioration.

Bldg. 17A

Marine Corps Logistics Base

Barstow Co: San Bernardino CA 92311

Landholding Agency: Navy

Property Number: 77200020001

Status: Unutilized

Reasons: Secured Area; Extensive deterioration.

Bldg. 62327

Marine Corps Base

Camp Pendleton Co: CA 92055-

Landholding Agency: Navy

Property Number: 77200020024

Status: Excess

Reason: Extensive deterioration.

Bldg. 3314

Marine Corps Air Station

Miramar Co: CA 92145-

Landholding Agency: Navy

Property Number: 77200020025

Status: Excess

Reason: Extensive deterioration.

Bldgs. 5157, 5158

Construction Battalion Center

Port Hueneme Co: Ventura CA 93043-4301

Landholding Agency: Navy

Property Number: 77200020045

Status: Unutilized

Reason: Secured Area.

Facility 13181

Camp Pendleton

Camp Pendleton Co: CA 92055-

Landholding Agency: Navy

Property Number: 77200020046

Status: Unutilized

Reasons: Secured Area; Extensive deterioration.

Facility 14220

Camp Pendleton

Camp Pendleton Co: CA 92055-

Landholding Agency: Navy

Property Number: 77200020047

Status: Unutilized

Reasons: Secured Area Extensive deterioration.

Facility 24151

Camp Pendleton

Camp Pendleton Co: CA 92055-

Landholding Agency: Navy

Property Number: 77200020048

Status: Unutilized

Reasons: Secured Area, Extensive deterioration.

Bldg. 22074

Marine Corps Base

Camp Pendleton Co: CA 92055-

Landholding Agency: Navy

Property Number: 77200020092

Status: Unutilized

Reason: Extensive deterioration.

Bldg. 62324

Marine Corps Base

Camp Pendleton Co: CA 92055-

Landholding Agency: Navy

Property Number: 77200020093

Status: Unutilized

Reason: Extensive deterioration.

Bldg. H-62

Marine Corps Base

Camp Pendleton Co: CA 92055-

Landholding Agency: Navy

Property Number: 77200020094

Status: Unutilized

Reason: Extensive deterioration.

Bldg. 1442

Marine Corps Base

Camp Pendleton Co: CA 92055-

Landholding Agency: Navy

Property Number: 77200020106

Status: Unutilized

Reason: Extensive deterioration.

Bldg. 1651

Marine Corps Base

Camp Pendleton Co: CA 92055-

Landholding Agency: Navy

Property Number: 77200020107

Status: Unutilized

Reason: Extensive deterioration.

Bldg. 13162

Marine Corps Base

Pendleton Co: CA 92055-

Landholding Agency: Navy

Property Number: 77200020108

Status: Unutilized

Reason: Extensive deterioration.

Bldg. 14100

Marine Corps Base

Camp Pendleton Co: CA 92055-

Landholding Agency: Navy

Property Number: 77200020109

Status: Unutilized

Reason: Extensive deterioration.

Bldg. 25131

Marine Corps Base

Camp Pendleton Co: CA 92055-

Landholding Agency: Navy

Property Number: 77200020110

Status: Unutilized

Reason: Extensive deterioration.

Bldg. 23025

Marine Corps Air Station

Miramar Co: CA 92132-

Landholding Agency: Navy

Property Number: 77200030001

Status: Unutilized

Reason: Secured Area.

Bldg. 23027

Marine Corps Air Station

Miramar Co: CA 92132-

Landholding Agency: Navy

Property Number: 77200030002

Status: Unutilized

Reason: Secured Area.

Bldg. 731

Naval Air Station

Point Mugu

Oxnard Co: Ventura CA 93043-4301

Landholding Agency: Navy

Property Number: 77200030003

Status: Excess

Reason: Extensive deterioration.

Bldg. 731A

Naval Air Station

Point Mugu

Oxnard Co: Ventura CA 93043-4301

Landholding Agency: Navy

Property Number: 77200030004

Status: Excess

Reason: Extensive deterioration.

Bldg. 865

Naval Air Station

Point Mugu

Oxnard Co: Ventura CA 93043-4301

Landholding Agency: Navy

Property Number: 77200030005

Status: Excess

Reason: Extensive deterioration.

Bldg. 868

Naval Air Station

Point Mugu

Oxnard Co: Ventura CA 93043-4301

Landholding Agency: Navy

Property Number: 77200030006

Status: Excess

Reason: Extensive deterioration.

Bldg. 474

Naval Const. Battalion Ctr

Port Hueneme

Oxnard Co: Ventura CA 93043-4301

Landholding Agency: Navy

Property Number: 77200030007

Status: Excess

Reason: Extensive deterioration.

Bldg. 5021

Naval Const. Battalion Ctr

Port Hueneme

Oxnard Co: Ventura CA 93043-4301

Landholding Agency: Navy

Property Number: 77200030008

Status: Excess

Reason: Extensive deterioration.

Bldg. 5022

Naval Const. Battalion Ctr

Port Hueneme

Oxnard Co: Ventura CA 93043-4301

Landholding Agency: Navy

Property Number: 77200030009

Status: Excess

Reason: Extensive deterioration.

Bldg. 5025

Naval Const. Battalion Ctr

Port Hueneme

Oxnard Co: Ventura CA 93043-4301

Landholding Agency: Navy

Property Number: 77200030010

Status: Excess

Reason: Extensive deterioration.

Bldg. 5113

Naval Const. Battalion Ctr

Port Hueneme

Oxnard Co: Ventura CA 93043-

Landholding Agency: Navy

Property Number: 77200030011

Status: Excess

Reason: Extensive deterioration.

Bldg. 5114

Naval Const. Battalion Ctr

Port Hueneme

Oxnard Co: Ventura CA 93043-4301

Landholding Agency: Navy

Property Number: 77200030012

Status: Excess

Reason: Extensive deterioration.

Bldgs. 82 & 84

Naval Air Station

Point Mugu

Oxnard Co: Ventura CA 93043-4301

Landholding Agency: Navy

Property Number: 77200030013

Status: Excess

Reason: Extensive deterioration.

Bldg. 6-1

Naval Air Station

Point Mugu

Oxnard Co: Ventura CA 93043-4301

Landholding Agency: Navy

Property Number: 77200030014

Status: Excess

Reason: Extensive deterioration.

Bldg. 479

Naval Construction Battalion Ctr.

Port Hueneme

Oxnard Co: Ventura CA 93043-4301

Landholding Agency: Navy

Property Number: 77200030015

Status: Excess

Reason: Extensive deterioration.

Bldg. 1131

Marine Corps Base

Camp Pendleton Co: CA 92055-

Landholding Agency: Navy

Property Number: 77200030025

Status: Excess

Reason: Extensive deterioration.

Bldg. 1132

Marine Corps Base

Camp Pendleton Co: CA 92055-

Landholding Agency: Navy

Property Number: 77200030026

Status: Excess

Reason: Extensive deterioration.

Bldg. 1141

Marine Corps Base

Camp Pendleton Co: CA 92055-

Landholding Agency: Navy

Property Number: 77200030027

Status: Excess

Reason: Extensive deterioration.

Bldg. 1145

Marine Corps Base

Camp Pendleton Co: CA 92055-

Landholding Agency: Navy

Property Number: 77200030028

Status: Excess

Reason: Extensive deterioration.

Bldg. 1256

Marine Corps Base

Camp Pendleton Co: CA 92055-

Landholding Agency: Navy

Property Number: 77200030029

Status: Excess

Reason: Extensive deterioration.

Bldg. 1362

Marine Corps Base

Camp Pendleton Co: CA 92055-

Landholding Agency: Navy

Property Number: 77200030030

Status: Excess

Reason: Extensive deterioration.

Bldg. 1363

Marine Corps Base

Camp Pendleton Co: CA 92055-

Landholding Agency: Navy

Property Number: 77200030031

Status: Excess

Reason: Extensive deterioration.

Bldg. 1622

Marine Corps Base

Camp Pendleton Co: CA 92055-

Landholding Agency: Navy

Property Number: 77200030032

Status: Excess

Reason: Extensive deterioration.

Bldg. 1623

Marine Corps Base

Camp Pendleton Co: CA 92055-

Landholding Agency: Navy

Property Number: 77200030033

Status: Excess

Reason: Extensive deterioration.

Bldg. 13115

Marine Corps Base

Camp Pendleton Co: CA 92055-

Landholding Agency: Navy

Property Number: 77200030034

Status: Excess

Reason: Extensive deterioration.

Bldg. 13125

Marine Corps Base

Camp Pendleton Co: CA 92055-

Landholding Agency: Navy

Property Number: 77200030035

Status: Excess

Reason: Extensive deterioration.

Bldg. 13142

Marine Corps Base

Camp Pendleton Co: CA 92055-

Landholding Agency: Navy

Property Number: 77200030036

Status: Excess

Reason: Extensive deterioration.

Bldg. 16134

Marine Corps Base

Camp Pendleton Co: CA 92055-

Landholding Agency: Navy

Property Number: 77200030037

Status: Excess

Reason: Extensive deterioration.

Bldg. 16135

Marine Corps Base

Camp Pendleton Co: CA 92055-

Landholding Agency: Navy

Property Number: 77200030038

Status: Excess

Reason: Extensive deterioration.

Bldg. 16136

Marine Corps Base

Camp Pendleton Co: CA 92055-

Landholding Agency: Navy

Property Number: 77200030039

Status: Excess

Reason: Extensive deterioration.

Bldg. 16137

Marine Corps Base

Camp Pendleton Co: CA 92055-

Landholding Agency: Navy

Property Number: 77200030040

Status: Excess

Reason: Extensive deterioration.

Bldg. 43432

Marine Corps Base

Camp Pendleton Co: CA 92055-

Landholding Agency: Navy

Property Number: 77200030041

Status: Excess

Reason: Extensive deterioration.

Bldg. 62408

Marine Corps Base

Camp Pendleton Co: CA 92055-

Landholding Agency: Navy

Property Number: 77200030042

Status: Excess

Reason: Extensive deterioration.

Bldg. 801

Naval Air Station

Point Mugu

Oxnard Co: Ventura CA 93042-5001

Landholding Agency: Navy

Property Number: 77200030043

Status: Unutilized

Reason: Extensive deterioration.

Bldg. 41

Naval Const. Battalion Ctr

Port Hueneme Co: Ventura CA 93043-4301

Landholding Agency: Navy

Property Number: 77200030044

Status: Unutilized

Reason: Extensive deterioration.

Bldg. 103

Naval Const. Battalion Ctr

Port Hueneme Co: Ventura CA 93043-4301

Landholding Agency: Navy

Property Number: 77200030045

Status: Unutilized

Reason: Extensive deterioration.

Bldg. 259

Naval Const. Battalion Ctr

Port Hueneme Co: Ventura CA 93043-4301

Landholding Agency: Navy

Property Number: 77200030046

Status: Unutilized

Reason: Extensive deterioration.

Bldg. 260

Naval Const. Battalion Ctr

Port Hueneme Co: CA 93043-4301

Landholding Agency: Navy

Property Number: 77200030047

Status: Unutilized

Reason: Extensive deterioration.

Bldg. 274

Naval Const. Battalion Ctr

Port Hueneme Co: Ventura CA 93043-4301

Landholding Agency: Navy

Property Number: 77200030048

Status: Unutilized

Reason: Extensive deterioration.

Bldg. 462

Naval Const. Battalion Ctr

Port Hueneme Co: Ventura CA 93043-4301

Landholding Agency: Navy

Property Number: 77200030049

Status: Unutilized

Reason: Extensive deterioration.

Bldg. 488

Naval Const. Battalion Ctr

Port Hueneme Co: Ventura CA 93043-4301

Landholding Agency: Navy

Property Number: 77200030050

Status: Unutilized

Reason: Extensive deterioration.

Bldg. 1150

Naval Const. Battalion Ctr

Port Hueneme Co: Ventura CA 93043-4301

Landholding Agency: Navy

Property Number: 77200030051

Status: Unutilized

Reason: Extensive deterioration.

Bldg. 1156

Naval Const. Battalion Ctr

Port Hueneme Co: Ventura CA 93043-4301

Landholding Agency: Navy

Property Number: 77200030052

Status: Unutilized

Reason: Extensive deterioration.

Bldg. 1275

Naval Const. Battalion Ctr

Port Hueneme Co: Ventura CA 93043-4301

Landholding Agency: Navy

Property Number: 77200030053

Status: Unutilized

Reason: Extensive deterioration.

Bldg. 1321

Naval Const. Battalion Ctr

Port Hueneme Co: Ventura CA 93043-4301

Landholding Agency: Navy

Property Number: 77200030054

Status: Unutilized

Reason: Extensive deterioration.

Bldg. 21091

Marine Corps Air Station

Miramar Co: San Diego CA 92132-

Landholding Agency: Navy

Property Number: 77200030058

Status: Unutilized

Reason: Extensive deterioration.

Bldg. 21127

Marine Corps Air Station

Miramar Co: San Diego CA 92132-

Landholding Agency: Navy

Property Number: 77200030059

Status: Unutilized

Reason: Extensive deterioration.

Bldg. 9919

Marine Corps Air Station

Miramar Co: San Diego CA 92132-

Landholding Agency: Navy

Property Number: 77200030060

Status: Unutilized

Reason: Extensive deterioration.

Bldg. 9920

Marine Corps Air Station

Miramar Co: San Diego CA 92132-

Landholding Agency: Navy

Property Number: 77200030061

Status: Unutilized

Reason: Extensive deterioration.

Bldg. OT33

Old Town Campus

Naval Space & Warfare Systems

San Diego Co: CA 92132-

Landholding Agency: Navy

Property Number: 77200040004

Status: Unutilized

Reason: Extensive deterioration.

Bldg. OT-5

Old Town Campus

Naval Space & Warfare Systems

San Diego Co: CA 92132-

Landholding Agency: Navy

Property Number: 77200040005

Status: Unutilized

Reason: Extensive deterioration.

Bldg. 1393

Marine Corps Base

Camp Pendleton Co: CA 92055-

Landholding Agency: Navy

Property Number: 77200040024

Status: Excess

Reason: Extensive deterioration.

Bldg. 25155

Marine Corps Base

Camp Pendleton Co: CA 92055-

Landholding Agency: Navy

Property Number: 77200040025

Status: Excess

Reason: Extensive deterioration.

Bldg. 25158

Marine Corps Base

Camp Pendleton Co: CA 92055-

Landholding Agency: Navy

Property Number: 77200040026

Status: Excess

Reason: Extensive deterioration.

Bldg. 25159

Marine Corps Base

Camp Pendleton Co: CA 92055-

Landholding Agency: Navy

Property Number: 77200040027

Status: Excess

Reason: Extensive deterioration.

Bldg. 12041

Naval Air Weapons Station

China Lake Co: CA 93555-6100

Landholding Agency: Navy

Property Number: 77200110065

Status: Excess

Reason: Extensive deterioration.

Bldg. 12052

Naval Air Weapons Station

China Lake Co: CA 93555-6100

Landholding Agency: Navy

Property Number: 77200110066

Status: Excess

Reason: Extensive deterioration.

Bldg. 16066

Naval Air Weapons Station

China Lake Co: CA 93555-6100

Landholding Agency: Navy

Property Number: 77200110067

Status: Excess

Reason: Extensive deterioration.

Bldg. 16074

Naval Air Weapons Station

China Lake Co: CA 93555-6100

Landholding Agency: Navy

Property Number: 77200110068

Status: Excess

Reason: Extensive deterioration.

Bldg. 16085

Naval Air Weapons Station

China Lake Co: CA 93555-6100

Landholding Agency: Navy

Property Number: 77200110069

Status: Excess

Reason: Extensive deterioration.

Bldg. 16086

Naval Air Weapons Station

China Lake Co: CA 93555-6100

Landholding Agency: Navy

Property Number: 77200110070

Status: Excess

Reason: Extensive deterioration.

Bldg. 16100

Naval Air Weapons Station

China Lake Co: CA 93555-6100

Landholding Agency: Navy

Property Number: 77200110071

Status: Excess

Reason: Extensive deterioration.

Bldg. 16115

Naval Air Weapons Station

China Lake Co: CA 93555-6100

Landholding Agency: Navy

Property Number: 77200110072

Status: Excess

Reason: Extensive deterioration.

Bldg. 16117

Naval Air Weapons Station

China Lake Co: CA 93555-6100

Landholding Agency: Navy

Property Number: 77200110073

Status: Excess

Reason: Extensive deterioration.

Bldg. 1235

Marine Corps Base

Camp Pendleton Co: CA 92055-

Landholding Agency: Navy

Property Number: 77200110082

Status: Excess

Reason: Extensive deterioration.

Bldg. 1682

Marine Corps Base

Camp Pendleton Co: CA 92055-

Landholding Agency: Navy

Property Number: 77200110083

Status: Excess

Reason: Extensive deterioration.

Bldg. 1683

Marine Corps Base

Camp Pendleton Co: CA 92055-

Landholding Agency: Navy

Property Number: 77200110084

Status: Excess

Reason: Extensive deterioration.

Bldg. 1691

Marine Corps Base

Camp Pendleton Co: CA 92055-

Landholding Agency: Navy

Property Number: 77200110085

Status: Excess

Reason: Extensive deterioration.

Bldg. 16109

Marine Corps Base

Camp Pendleton Co: CA 92055-

Landholding Agency: Navy

Property Number: 77200110086

Status: Excess

Reason: Extensive deterioration.

Bldg. 16110

Marine Corps Base

Camp Pendleton Co: CA 92055-

Landholding Agency: Navy

Property Number: 77200110087

Status: Excess

Reason: Extensive deterioration.

Bldg. 16128

Marine Corps Base

Camp Pendleton Co: CA 92055-

Landholding Agency: Navy

Property Number: 77200110088

Status: Excess

Reason: Extensive deterioration.

Bldg. 33378

Marine Corps Base

Camp Pendleton Co: CA 92055-

Landholding Agency: Navy

Property Number: 77200110089

Status: Excess

Reason: Extensive deterioration.

Bldg. 33566

Marine Corps Base

Camp Pendleton Co: CA 92055-

Landholding Agency: Navy

Property Number: 77200110090

Status: Excess

Reason: Extensive deterioration.

Bldg. 33967

Marine Corps Base

Camp Pendleton Co: CA 92055-

Landholding Agency: Navy

Property Number: 77200110091

Status: Excess

Reason: Extensive deterioration.

Bldg. 41318

Marine Corps Base

Camp Pendleton Co: CA 92055-

Landholding Agency: Navy

Property Number: 77200110092

Status: Excess

Reason: Extensive deterioration.

Bldg. 41319

Marine Corps Base

Camp Pendleton Co: CA 92055-

Landholding Agency: Navy

Property Number: 77200110093

Status: Excess

Reason: Extensive deterioration.

Bldg. 43454

Marine Corps Base

Camp Pendleton Co: CA 92055-

Landholding Agency: Navy

Property Number: 77200110094

Status: Excess

Reason: Extensive deterioration.

Bldg. 43455

Marine Corps Base

Camp Pendleton Co: CA 92055-

Landholding Agency: Navy

Property Number: 77200110095

Status: Excess

Reason: Extensive deterioration.

Bldg. 1231

Marine Corps Base

Camp Pendleton Co: CA 92055-

Landholding Agency: Navy

Property Number: 77200110096

Status: Excess

Reason: Extensive deterioration.

Bldg. 1687

Marine Corps Base

Camp Pendleton Co: CA 92055-

Landholding Agency: Navy

Property Number: 77200110097

Status: Excess

Reason: Extensive deterioration.

Bldg. 2622

Marine Corps Base

Camp Pendleton Co: CA 92055-

Landholding Agency: Navy

Property Number: 77200110098

Status: Excess

Reason: Extensive deterioration.

Bldg. 31523

Marine Corps Base

Camp Pendleton Co: CA 92055-

Landholding Agency: Navy

Property Number: 77200110099

Status: Excess

Reason: Extensive deterioration.

Bldg. 467

Marine Corps Recruit Depot

San Diego Co: CA 92132-

Landholding Agency: Navy

Property Number: 77200110100

Status: Unutilized

Reason: Secured Area.

Connecticut

DG1-DG8, DG10-DG-27

Dolphin Gardens

Naval Submarine Base New London

Groton Co: New London CT 06349-

Landholding Agency: Navy

Property Number: 77199930025

Status: Unutilized

Reason: Extensive deterioration

Bldg. 480

Naval Submarine Base

Groton Co: New London CT 06349-

Landholding Agency: Navy

Property Number: 77200010075

Status: Unutilized

Reason: Secured Area 10

Bldgs./84.62 acres

Naval Weapons Ind. Rsv. Pl.

Bloomfield Co: Hartford CT 06002-0002

Landholding Agency: Navy

Property Number: 77200020096

Status: Unutilized

Reason: Secured Area

Bldg. 308

Naval Submarine Base

Groton Co: New London CT 06349-

Landholding Agency: Navy

Property Number: 77200030016

Status: Unutilized

Reason: Extensive deterioration

Florida

Cape St. George Lighthouse

St. George Island Co: Franklin FL 32328-

Landholding Agency: GSA

Property Number: 54199940012

Status: Excess

Reasons: Floodway Extensive deterioration

GSA Number: 4-U-FL-1167.

Boca Grande Range

Rear Light

Gasparilla Island Co: Lee FL 33921-

Landholding Agency: GSA

Property Number: 54199940013

Status: Excess

Reason: Floodway

GSA Number: 4-U-FL-1169.

Sanibel Island Light

Sanibel Co: Lee FL 33957-

Landholding Agency: GSA

Property Number: 54199940014

Status: Excess

Reason: Floodway

GSA Number: 4-U-FL-1162.

Bldg. 648

Naval Air Station

Pensacola Co: Escambia FL 32508-

Landholding Agency: Navy

Property Number: 77199920087

Status: Unutilized

Reason: Secured Area.

Bldg. 1882

Naval Air Station

Pensacola Co: Escambia FL 32508-

Landholding Agency: Navy

Property Number: 77199920088

Status: Unutilized

Reasons: Secured Area; Extensive deterioration.

Bldg. 3228

Naval Air Station

Pensacola Co: Escambia FL 32508-

Landholding Agency: Navy

Property Number: 77199920089

Status: Unutilized

Reason: Secured Area.

Bldg. 3604

Naval Air Station

Pensacola Co: Escambia FL 32508-

Landholding Agency: Navy

Property Number: 77199920090

Status: Unutilized

Reason: Secured Area.

Bldg. 3605

Naval Air Station

Pensacola Co: Escambia FL 32508-

Landholding Agency: Navy

Property Number: 77199920091

Status: Unutilized

Reason: Secured Area.

Bldg. 3626

Naval Air Station

Pensacola Co: Escambia FL 32508-

Landholding Agency: Navy

Property Number: 77199920092

Status: Unutilized

Reason: Secured Area.

Bldg. 3674

Naval Air Station

Pensacola Co: Escambia FL 32508-

Landholding Agency: Navy

Property Number: 77199920093

Status: Unutilized

Reason: Secured Area

Bldg. A-146

Boca Chica Annex

Naval Air Station

Key West Co: Monroe FL 33040-

Landholding Agency: Navy

Property Number: 77199930027

Status: Unutilized

Reason: Extensive deterioration.

Bldg. A-232

Boca Chica Annex

Naval Air Station

Key West Co: Monroe FL 33040-

Landholding Agency: Navy

Property Number: 77199930028

Status: Unutilized

Reason: Extensive deterioration.

Bldg. A-4020

Boca Chica Annex

Naval Air Station

Key West Co: Monroe FL 33040-

Landholding Agency: Navy

Property Number: 77199930029

Status: Unutilized

Reason: Extensive deterioration.

Bldg. 3451

Naval Air Station

Pensacola Co: Escambia FL 32508-

Landholding Agency: Navy

Property Number: 77199940066

Status: Unutilized

Reason: Secured Area.

Bldg. 1558

NAS Jacksonville

Jacksonville Co: Duval FL 32212-

Landholding Agency: Navy

Property Number: 77200010001

Status: Unutilized

Reasons: Within 2000 ft. of flammable or explosive material; Secured Area.

Bldg. 592

NAS Jacksonville

Jacksonville Co: Duval FL 32212-

Landholding Agency: Navy

Property Number: 77200010002

Status: Unutilized

Reasons: Secured Area;

Extensive deterioration.

Bldg. 610

NAS Jacksonville

Jacksonville Co: Duval FL 32212-

Landholding Agency: Navy

Property Number: 77200010003

Status: Unutilized

Reasons: Secured Area; Extensive deterioration.

Bldg. 7L

NAS Jacksonville

Jacksonville Co: Duval FL 32212-

Landholding Agency: Navy

Property Number: 77200010004

Status: Unutilized

Reasons: Secured Area; Extensive deterioration.

Bldg. 7M

NAS Jacksonville

Jacksonville Co: Duval FL 32212-

Landholding Agency: Navy

Property Number: 77200010005

Status: Unutilized

Reasons: Secured Area; Extensive deterioration.

Bldg. 7N

NAS Jacksonville

Jacksonville Co: Duval FL 32212-

Landholding Agency: Navy

Property Number: 77200010006

Status: Unutilized

Reasons: Secured Area; Extensive deterioration.

Bldg. 70

NAS Jacksonville

Jacksonville Co: Duval FL 32212-

Landholding Agency: Navy

Property Number: 77200010007

Status: Unutilized

Reasons: Secured Area; Extensive deterioration.

Bldg. A-952

Naval Air Station

Boca Chica

Key West Co: Monroe FL 33040-

Landholding Agency: Navy

Property Number: 77200010034

Status: Unutilized

Reason: Extensive deterioration.

Bldg. A-962

Naval Air Station

Boca Chica

Key West Co: Monroe FL 33040-

Landholding Agency: Navy

Property Number: 77200010035

Status: Unutilized

Reason: Extensive deterioration.

Bldg. A-1105

Naval Air Station

Boca Chica

Key West Co: Monroe FL 33040-

Landholding Agency: Navy

Property Number: 77200010036

Status: Unutilized

Reason: Extensive deterioration.

Bldg. 44

Naval Air Station

Pensacola Co: Escambia FL 32508-

Landholding Agency: Navy

Property Number: 77200010038

Status: Unutilized

Reason: Secured Area.

Bldg. 58

Naval Air Station

Pensacola Co: Escambia FL 32508-

Landholding Agency: Navy

Property Number: 77200010039

Status: Unutilized

Reason: Secured Area.

Bldg. 365

Naval Air Station

Pensacola Co: Escambia FL 32508-

Landholding Agency: Navy

Property Number: 77200010040

Status: Unutilized

Reason: Secured Area.

Bldg. 455

Naval Air Station

Pensacola Co: Escambia FL 32508-

Landholding Agency: Navy

Property Number: 77200010041

Status: Unutilized

Reason: Secured Area.

Bldg. 467

Naval Air Station

Pensacola Co: Escambia FL 32508-

Landholding Agency: Navy

Property Number: 77200010042

Status: Unutilized

Reason: Secured Area.

Bldg. 475

Naval Air Station

Pensacola Co: Escambia FL 32508-

Landholding Agency: Navy

Property Number: 77200010043

Status: Unutilized

Reason: Secured Area.

Bldg. 605A

Naval Air Station

Pensacola Co: Escambia FL 43508-

Landholding Agency: Navy

Property Number: 77200010044

Status: Unutilized

Reason: Secured Area.

Bldg. 689

Naval Air Station

Pensacola Co: Escambia FL 32508-

Landholding Agency: Navy

Property Number: 77200010045

Status: Unutilized

Reason: Secured Area.

Bldg. 802A

Naval Air Station

Pensacola Co: Escambia FL 32508-

Landholding Agency: Navy

Property Number: 77200010046

Status: Unutilized

Reason: Secured Area.

Bldg. 835

Naval Air Station

Pensacola Co: Escambia FL 32508-

Landholding Agency: Navy

Property Number: 77200010047

Status: Unutilized

Reason: Secured Area.

Bldg. 859B

Naval Air Station

Pensacola Co: Escambia FL 32508-

Landholding Agency: Navy

Property Number: 77200010048

Status: Unutilized

Reason: Secured Area.

Bldg. 859C

Naval Air Station

Pensacola Co: Escambia FL 32508-

Landholding Agency: Navy

Property Number: 77200010049

Status: Unutilized

Reason: Secured Area.

Bldg. 869

Naval Air Station

Pensacola Co: Escambia FL 32598-

Landholding Agency: Navy

Property Number: 77200010050

Status: Unutilized

Reason: Secured Area.

Bldg. 1713

Naval Air Station

Pensacola Co: Escambia FL 32508-

Landholding Agency: Navy

Property Number: 77200010051

Status: Unutilized

Reason: Secured Area.

Bldg. 2437

Naval Air Station

Pensacola Co: Escambia FL 32508-

Landholding Agency: Navy

Property Number: 77200010052

Status: Unutilized

Reason: Secured Area.

Bldg. 2462

Naval Air Station

Pensacola Co: Escambia FL 32508-

Landholding Agency: Navy

Property Number: 77200010053

Status: Unutilized

Reason: Secured Area.

Bldg. 3446

Naval Air Station

Pensacola Co: Escambia FL 32508-

Landholding Agency: Navy

Property Number: 77200010054

Status: Unutilized

Reason: Secured Area.

Bldg. 3478

Naval Air Station

Pensacola Co: Escambia FL 32508-

Landholding Agency: Navy

Property Number: 77200010055

Status: Unutilized

Reason: Secured Area.

Bldg. 3878

Naval Air Station

Pensacola Co: Escambia FL 32508-

Landholding Agency: Navy

Property Number: 77200010056

Status: Unutilized

Reason: Secured Area.

Bldg. 7H

Naval Air Station

Jacksonville Co: Duval FL 32212-

Landholding Agency: Navy

Property Number: 77200020064

Status: Unutilized

Reasons: Secured Area; Extensive deterioration.

Bldg. 7J

Naval Air Station

Jacksonville Co: Duval FL 32212-

Landholding Agency: Navy

Property Number: 77200020065

Status: Unutilized

Reasons: Secured Area; Extensive deterioration.

Bldg. 7K

Naval Air Station

Jacksonville Co: Duval FL 32212-

Landholding Agency: Navy

Property Number: 77200020066

Status: Unutilized

Reasons: Secured Area; Extensive deterioration.

Bldg. 106

Naval Air Station

Jacksonville Co: Duval FL 32212-

Landholding Agency: Navy

Property Number: 77200020067

Status: Unutilized

Reasons: Secured Area; Extensive deterioration.

Bldg. 135

Naval Air Station

Jacksonville Co: Duval FL 32212-

Landholding Agency: Navy

Property Number: 77200020068

Status: Unutilized

Reasons: Secured Area; Extensive deterioration.

Bldg. 142

Naval Air Station

Jacksonville Co: Duval FL 32212-

Landholding Agency: Navy

Property Number: 77200020069

Status: Unutilized

Reasons: Secured Area; Extensive deterioration.

Bldg. 584

Naval Air Station

Jacksonville Co: Duval FL 32212-

Landholding Agency: Navy

Property Number: 77200020070

Status: Unutilized

Reasons: Secured Area; Extensive deterioration.

Bldg. 610

Naval Air Station

Jacksonville Co: Duval FL 32212-

Landholding Agency: Navy

Property Number: 77200020071

Status: Unutilized

Reasons: Secured Area; Extensive deterioration.

Bldg. 702

Naval Air Station

Jacksonville Co: Duval FL 32212-

Landholding Agency: Navy

Property Number: 77200020072

Status: Unutilized

Reasons: Secured Area; Extensive deterioration.

Bldg. 703

Naval Air Station

Jacksonville Co: Duval FL 32212-

Landholding Agency: Navy

Property Number: 77200020073

Status: Unutilized

Reasons: Secured Area; Extensive deterioration.

Bldg. 725

Naval Air Station

Jacksonville Co: Duval FL 32212-

Landholding Agency: Navy

Property Number: 77200020074

Status: Unutilized

Reasons: Secured Area; Extensive deterioration.

Bldg. 740A

Naval Air Station

Jacksonville Co: Duval FL 32212-

Landholding Agency: Navy

Property Number: 77200020075

Status: Unutilized

Reasons: Secured Area; Extensive deterioration.

Bldg. 54

Naval Station

Mayport Co: Duval FL 32228-

Landholding Agency: Navy

Property Number: 77200020076

Status: Unutilized

Reasons: Secured Area; Extensive deterioration.

Bldg. 211

Naval Station

Mayport Co: Duval FL 32228-

Landholding Agency: Navy

Property Number: 77200020077

Status: Unutilized

Reasons: Secured Area; Extensive deterioration.

Bldg. 62

NAS Jacksonville

Altoona Co: Marion FL 32702-

Landholding Agency: Navy

Property Number: 77200020111

Status: Unutilized

Reasons: Secured Area; Extensive deterioration.

Bldg. 94

NAS Jacksonville

Altoona Co: Marion FL 32702-

Landholding Agency: Navy

Property Number: 77200020112

Status: Unutilized

Reasons: Secured Area; Extensive deterioration.

Bldg. 114

Naval Air Station

Whiting Field

Milton Co: Santa Rosa FL 32570-

Landholding Agency: Navy

Property Number: 77200040006

Status: Underutilized

Reasons: Within airport runway clear zone; Secured Area.

Bldg. 133

Naval Air Station

Whiting Field

Milton Co: Santa Rosa FL 32570-

Landholding Agency: Navy

Property Number: 77200040007

Status: Underutilized

Reasons: Within airport runway clear zone; Secured Area.

Bldg. 141

Naval Air Station

Whiting Field

Milton Co: Santa Rosa FL 32570-

Landholding Agency: Navy

Property Number: 77200040008

Status: Underutilized

Reasons: Within airport runway clear zone; Secured Area.

16 Bldgs.

Naval Air Station

Whiting Field

Milton Co: Santa Rosa FL 32570-

Location: 142, 151, 153, 156, 164, 170, 171, 176, 178, 180, 182-187

Landholding Agency: Navy

Property Number: 77200040009

Status: Underutilized

Reasons: Within airport runway clear zone; Secured Area.

11 Bldgs.

Naval Air Station

Whiting Field

Milton Co: Santa Rosa FL 32570-

Location: 103, 105, 112, 113, 115-119, 121, 122

Landholding Agency: Navy

Property Number: 77200040010

Status: Underutilized

Reasons: Within airport runway clear zone; Secured Area.

23 Bldgs.

Naval Air Station

Whiting Field

Milton Co: Santa Rosa FL 32570-

Location: 143-150, 152, 154, 155, 157, 158, 160-163, 165, 166, 168, 169, 179, 181

Landholding Agency: Navy

Property Number: 77200040011

Status: Underutilized

Reasons: Within airport runway clear zone; Secured Area.

5 Bldgs.

Naval Air Station

Whiting Field

Milton Co: Santa Rosa FL 32570-

Location: 173, 174, 175, 177, 188

Landholding Agency: Navy

Property Number: 77200040012

Status: Underutilized

Reasons: Within airport runway clear zone; Secured Area.

6 Bldgs.

Naval Air Station

Whiting Field

Milton Co: Santa Rosa FL 32570-

Location: 130-132, 134-136

Landholding Agency: Navy

Property Number: 77200040013

Status: Underutilized

Reasons: Within airport runway clear zone; Secured Area.

Bldgs. 159, 167, 172

Naval Air Station

Whiting Field

Milton Co: Santa Rosa FL 32570-

Landholding Agency: Navy

Property Number: 77200040014

Status: Underutilized

Reasons: Within airport runway clear zone; Secured Area.

5 Bldgs.

Naval Air Station

Whiting Field

Milton Co: Santa Rosa FL 32570-

Location: 124, 127, 138-140

Landholding Agency: Navy

Property Number: 77200040015

Status: Underutilized

Reasons: Within airport runway clear zone; Secured Area.

5 Bldgs.

Naval Air Station

Whiting Field

Milton Co: Santa Rosa FL 32570-

Location: 107, 109, 111, 120, 123

Landholding Agency: Navy

Property Number: 77200040016

Status: Underutilized

Reasons: Within airport runway clear zone; Secured Area.

5 Bldgs.

Naval Air Station

Whiting Field

Milton Co: Santa Rosa FL 32570-

Location: 102, 104, 106, 108, 110

Landholding Agency: Navy

Property Number: 77200040017

Status: Underutilized

Reasons: Within airport runway clear zone; Secured Area.

Bldg. 36

Naval Station

Mayport Co: Duval FL 32228-

Landholding Agency: Navy

Property Number: 77200040021

Status: Unutilized

Reason: Extensive deterioration.

Bldg. 348

Naval Station

Mayport Co: Duval FL 32228-

Landholding Agency: Navy

Property Number: 77200040022

Status: Unutilized

Reason: Extensive deterioration.

Bldg. 1801

Naval Station Mayport

Mayport Co: Duval FL 32228-

Landholding Agency: Navy

Property Number: 77200040035

Status: Unutilized

Reasons:

Within 2000 ft. of flammable or explosive material; Floodway; Secured Area; Extensive deterioration.

Bldg. 1802

Naval Station Mayport

Mayport Co: Duval FL 32228-

Landholding Agency: Navy

Property Number: 77200040036

Status: Unutilized

Reasons: Within 2000 ft. of flammable or explosive material; Floodway; Secured Area; Extensive deterioration.

Bldg. 1803

Naval Station Mayport

Mayport Co: Duval FL 32228-

Landholding Agency: Navy

Property Number: 77200040037

Status: Unutilized

Reasons: Within 2000 ft. of flammable or explosive material; Floodway; Secured Area; Extensive deterioration.

Bldg. 1859

Naval Station Mayport

Mayport Co: Duval FL 32228-

Landholding Agency: Navy

Property Number: 77200040038

Status: Unutilized

Reasons: Within 2000 ft. of flammable or explosive material; Floodway; Secured Area; Extensive deterioration.

Georgia

Stored Products Insects

R&D Lab

3401 Edwin Street

Savannah Co: Chatham GA 31403-

Landholding Agency: GSA

Property Number: 54200010003

Status: Excess

Reason: Floodway

GSA Number: 4-A-GA-861.

Range Rear Light

Blythe Island

Brunswick Co: Glynn GA 31525-

Landholding Agency: GSA

Property Number: 54200020001

Status: Excess

Reason: Extensive deterioration

GSA Number: 4-U-GA-863.

Bldg. 3012

Naval Submarine Base

Kings Bay Co: Camden GA 31547-

Landholding Agency: Navy

Property Number: 77199910001

Status: Unutilized

Reason: Extensive deterioration.

Facility 5001

Naval Submarine Base

Kings Bay Co: Camden GA 31547-

Landholding Agency: Navy

Property Number: 77199940016

Status: Unutilized

Reason: Secured Area.

Facility 5002

Naval Submarine Base

Kings Bay Co: Camaden GA 31547-

Landholding Agency: Navy

Property Number: 77199940017

Status: Unutilized

Reason: Secured Area.

Facility 5003

Naval Submarine Base

Kings Bay Co: Camden GA 31547-

Landholding Agency: Navy

Property Number: 77199940018

Status: Unutilized

Reason: Secured Area.

Facility 5935

Naval Submarine Base

Kings Bay Co: Camden GA 31547

Landholding Agency: Navy

Property Number: 77199940019

Status: Unutilized

Reason: Secured Area.

Guam

Structures 312, 1792

COMNAVMARIANAS

Waterfront Annex Co: GU 96540-

Landholding Agency: Navy

Property Number: 77199930002

Status: Excess

Reason: Secured Area.

Structures 2020, 2021

COMNAVMARIANAS

Waterfront Annex Co: GU 96540-

Landholding Agency: Navy

Property Number: 77199930003

Status: Excess

Reason: Secured Area.

Bldg. 3171

COMNAVMARIANAS

Waterfront Annex Co: GU 96540-

Landholding Agency: Navy

Property Number: 77199930004

Status: Excess

Reasons: Secured Area; Extensive deterioration.

Bldg. 264

U.S. Naval Forces

COMNAVMARIANAS

Waterfront Annex Co: GU 96540-0051

Landholding Agency: Navy

Property Number: 77199930048

Status: Unutilized

Reasons: Within 2000 ft. of flammable or explosive material; Secured Area; Extensive deterioration.

Bldg. 4400

U.S. Naval Forces

COMNAVMARIANAS

Waterfront Annex Co: GU 96540-0051

Landholding Agency: Navy

Property Number: 77199930057

Status: Unutilized

Reasons: Secured Area; Extensive deterioration.

Bldg. 4402

U.S. Naval Forces

COMNAVMARIANAS

Waterfront Annex Co: GU 96540-0051

Landholding Agency: Navy

Property Number: 77199930058

Status: Unutilized

Reasons: Secured Area; Extensive deterioration.

Bldg. 4414

U.S. Naval Forces

COMNAVMARIANAS

Waterfront Annex Co: GU 96540-0051

Landholding Agency: Navy

Property Number: 77199930059

Status: Unutilized

Reasons: Secured Area; Extensive deterioration.

Bldg. 4425

U.S. Naval Forces

COMNAVMARIANAS

Waterfront Annex Co: GU 96540-0051

Landholding Agency: Navy

Property Number: 77199930060

Status: Unutilized

Reasons: Secured Area; Extensive deterioration.

Bldgs. 4426-4428

U.S. Naval Forces

COMNAVMARIANAS

Waterfront Annex Co: GU 96540-0051

Landholding Agency: Navy

Property Number: 77199930061

Status: Unutilized

Reasons: Secured Area; Extensive deterioration.

Bldg. 26

U.S. Naval Forces, Marianas

Waterfront Annex Co: GU 96540-0051

Landholding Agency: Navy

Property Number: 77200020049

Status: Unutilized

Reason: Secured Area.

Bldg. 264

U.S. Naval Forces, Marianas

Waterfront Annex Co: GU 96540-0051

Landholding Agency: Navy

Property Number: 77200020050

Status: Unutilized

Reasons: Within 2000 ft. of flammable or explosive material; Secured Area; Extensive deterioration.

Bldg. 3112

U.S. Naval Forces, Marianas

Waterfront Annex Co: GU 96540-0051

Landholding Agency: Navy

Property Number: 77200020051

Status: Unutilized

Reason: Secured Area.

Bldg. 3116

U.S. Naval Forces, Marianas

Waterfront Annex Co: GU 96540-0051

Landholding Agency: Navy

Property Number: 77200020052

Status: Unutilized

Reason: Secured Area.

Bldg. 3117

U.S. Naval Forces, Marianas

Waterfront Annex Co: GU 96540-0051

Landholding Agency: Navy

Property Number: 77200020053

Status: Unutilized

Reason: Secured Area.

Bldg. 3118

U.S. Naval Forces, Marianas

Waterfront Annex Co: GU 96540-0051

Landholding Agency: Navy

Property Number: 77200020054

Status: Unutilized

Reason: Secured Area.

Bldg. 3120

U.S. Naval Forces, Marianas

Waterfront Annex Co: GU 96540-0051

Landholding Agency: Navy

Property Number: 77200020055

Status: Unutilized

Reason: Secured Area.

Bldg. 3121

U.S. Naval Forces, Marianas

Waterfront Annex Co: GU 96540-0051

Landholding Agency: Navy

Property Number: 77200020056

Status: Unutilized

Reason: Secured Area.

Bldg. 4400

U.S. Naval Forces, Marianas

Waterfront Annex Co: GU 96540-0051

Landholding Agency: Navy

Property Number: 77200020057

Status: Unutilized

Reasons: Secured Area; Extensive deterioration.

Bldg. 4402

U.S. Naval Forces, Marianas

Waterfront Annex Co: GU 96540-0051

Landholding Agency: Navy

Property Number: 77200020058

Status: Unutilized

Reason: Secured Area.

Bldg. 4414

U.S. Naval Forces, Marianas

Waterfront Annex Co: GU 96540-0051

Landholding Agency: Navy

Property Number: 77200020059

Status: Unutilized

Reason: Secured Area.

Bldg. 4425

U.S. Naval Forces, Marianas

Waterfront Annex Co: GU 96540-0051

Landholding Agency: Navy

Property Number: 77200020060

Status: Unutilized

Reason: Secured Area.

Bldgs. 4426, 4427, 4428

U.S. Naval Forces, Marianas

Waterfront Annex Co: GU 96540-0051

Landholding Agency: Navy

Property Number: 77200020061

Status: Unutilized

Reason: Secured Area.

Hawaii

Portion, Bellows AFS

DE #1, Parcel 5A

Waimanalo Co: Oahu HI 96795-

Landholding Agency: GSA

Property Number: 54199930025

Status: Surplus

Reason: Floodway;

GSA Number: 9-D-HI-574.

Bldg. 126, Naval Magazine

Waikele Branch

Lualualei Co: Oahu HI 96792-

Landholding Agency: Navy

Property Number: 77199230012

Status: Unutilized

Reasons: Within 2000 ft. of flammable or explosive material; Extensive Deterioration; Secured Area.

Bldg. Q75, Naval Magazine

Lualualei Branch

Lualualei Co: Oahu HI 96792-

Landholding Agency: Navy

Property Number: 77199230013

Status: Unutilized

Reasons: Extensive Deterioration; Secured Area.

Bldg. 7, Naval Magazine

Lualualei Branch

Lualualei Co: Oahu HI 96792-

Landholding Agency: Navy

Property Number: 77199230014

Status: Unutilized

Reasons: Extensive Deterioration; Secured Area.

Bldg. 6, Pearl Harbor

Richardson Recreational Area.

Honolulu Co: Honolulu HI 96860-

Landholding Agency: Navy

Property Number: 77199410003

Status: Unutilized

Reason: Extensive deterioration.

Bldg. 10, Pearl Harbor

Richardson Recreational Area

Honolulu Co: Honolulu HI 96860-

Landholding Agency: Navy

Property Number: 77199410004

Status: Unutilized

Reason: Extensive deterioration.

Bldg. 9

Navy Public Works Center

Kolekole Road

Lualualei Co: Honolulu HI 96782-

Landholding Agency: Navy

Property Number: 77199530009

Status: Excess

Reasons: Within 2000 ft. of flammable or explosive material; Secured Area.

Bldg. X5

Nanumea Road

Pearl Harbor Co: Honolulu HI 96782-

Landholding Agency: Navy

Property Number: 77199530010

Status: Excess

Reason: Secured Area.

Bldg. SX30

Nanumea Road

Pearl Harbor Co: Honolulu HI 96860-

Landholding Agency: Navy

Property Number: 77199530011

Status: Excess

Reason: Secured Area.

Bldg. 98

Pearl Harbor Naval Shipyard

Pearl Harbor Co: Honolulu HI 96860-

Landholding Agency: Navy

Property Number: 77199620032

Status: Excess

Reason: Extensive deterioration.

Bldg. Q13

Naval Station, Ford Island

Pearl Harbor Co: Honolulu HI 96860-

Landholding Agency: Navy

Property Number: 77199640035

Status: Unutilized

Reason: Extensive deterioration.

Bldg. Q14

Naval Station, Ford Island

Pearl Harbor Co: Honolulu HI 96860-

Landholding Agency: Navy

Property Number: 77199640036

Status: Unutilized

Reason: Extensive deterioration.

Bldg. 40

Naval Magazine Lualualei

Co: Oahu HI 96792-4301

Landholding Agency: Navy

Property Number: 77199830028

Status: Unutilized

Reason: Extensive deterioration.

Bldg. 50

Naval Magazine Lualualei

Co: Oahu HI 96792-4301

Landholding Agency: Navy

Property Number: 77199830029

Status: Unutilized

Reason: Extensive deterioration.

Bldg. Q76

Naval Magazine Lualualei

Co: Oahu HI 96792-4301

Landholding Agency: Navy

Property Number: 77199830030

Status: Unutilized

Reason: Extensive deterioration.

Bldg. Q334

Naval Magazine Lualualei

Co: Oahu HI 96792-4301

Landholding Agency: Navy

Property Number: 77199830031

Status: Unutilized

Reason: Extensive deterioration.

Bldg. S380

Naval Magazine Lualualei

Co: Oahu HI 96792-4301

Landholding Agency: Navy

Property Number: 77199830032

Status: Unutilized

Reason: Extensive deterioration.

Bldg. S381

Naval Magazine Lualualei

Co: Oahu HI 96792-4301

Landholding Agency: Navy

Property Number: 77199830033

Status: Unutilized

Reason: Extensive deterioration.

Bldg. Q410

Naval Magazine Lualualei

Co: Oahu HI 96792-4301

Landholding Agency: Navy

Property Number: 77199830034

Status: Unutilized

Reason: Extensive deterioration.

Bldg. Q422

Naval Magazine Lualualei

Co: Oahu HI 96792-4301

Landholding Agency: Navy

Property Number: 77199830035

Status: Unutilized

Reason: Extensive deterioration.

Bldg. 429

Naval Magazine Lualualei

Co: Oahu HI 96792-4301

Landholding Agency: Navy

Property Number: 77199830036

Status: Unutilized

Reason: Extensive deterioration.

Bldg. 431

Naval Magazine Lualualei

Co: Oahu HI 96792-4301

Landholding Agency: Navy

Property Number: 77199830037

Status: Unutilized

Reason: Extensive deterioration.

Bldg. 447

Naval Magazine Lualualei

Co: Oahu HI 96792-4301

Landholding Agency: Navy

Property Number: 77199830038

Status: Unutilized

Reason: Extensive deterioration.

Facility S-721

Naval Station

Pearl Harbor Co: Honolulu HI 96860-

Landholding Agency: Navy

Property Number: 77199840042

Status: Excess

Reason: Secured Area.

Facility S-897

Naval Station

Pearl Harbor Co: Honolulu HI 96860-

Landholding Agency: Navy

Property Number: 77199840043

Status: Excess

Reason: Secured Area.

Facility S-937

Naval Station

Pearl Harbor Co: Honolulu HI 96860-

Landholding Agency: Navy

Property Number: 77199840044

Status: Excess

Reason: Secured Area.

Facility 19

Naval Station

Pearl Harbor Co: Honolulu HI 96860-

Landholding Agency: Navy

Property Number: 77199840045

Status: Excess

Reason: Secured Area.

Facility 63

Naval Computer & Telecomm. Station

Wahiawa Co: HI 96786-

Landholding Agency: Navy

Property Number: 77199920013

Status: Excess

Reason: Extensive deterioration.

Facility SX30

Navy Public Works Center

Pearl Harbor Co: Honolulu HI 96860-

Landholding Agency: Navy

Property Number: 77199920027

Status: Excess

Reasons: Secured Area; Extensive deterioration.

Idaho

Moore Hall U.S. Army Rsve Ctr

1575 N. Skyline Dr.

Idaho Falls Co: Bonneville ID 83401-

Landholding Agency: GSA

Property Number: 21199720207

Status: Excess

Reason: Within 2000 ft. of flammable or explosive material

GSA Number: 9-D-ID-544.

Illinois

Navy Family Housing

18-units

Hanna City Co: Peoria IL 61536-

Landholding Agency: GSA

Property Number: 54199940018

Status: Excess

Reason: Within 2000 ft. of flammable or explosive material

GSA Number: 1-N-IL-723.

Bldg. 415

Naval Training Center

201 N. Decatur Ave.

Great Lakes IL

Landholding Agency: Navy

Property Number: 77199840023

Status: Unutilized

Reason: Secured Area.

Bldg. 1015

Naval Training Center

201 N. Decatur Ave.

Great Lakes IL

Landholding Agency: Navy

Property Number: 77199840024

Status: Unutilized

Reason: Secured Area.

Bldg. 1016

Naval Training Center

201 N. Decatur Ave.

Great Lakes IL

Landholding Agency: Navy

Property Number: 77199840025

Status: Unutilized

Reason: Secured Area.

Bldg. 910

Naval Training Center

Great Lakes Co: IL 60088-5000

Landholding Agency: Navy

Property Number: 77199920055

Status: Unutilized

Reason: Secured Area.

Bldg. 800

Naval Training Center

Great Lakes Co: IL 60088-5000

Landholding Agency: Navy

Property Number: 77199920056

Status: Unutilized

Reason: Secured Area.

Bldg. 1000

Naval Training Center

Great Lakes Co: IL 60088-5000

Landholding Agency: Navy

Property Number: 77199920057

Status: Unutilized

Reason: Secured Area.

Bldg. 1200

Naval Training Center

Great Lakes Co: IL 60088-5000

Landholding Agency: Navy

Property Number: 77199920058

Status: Unutilized

Reason: Secured Area.

Bldg. 1400

Naval Training Center

Great Lakes Co: IL 60088-5000

Landholding Agency: Navy

Property Number: 77199920059

Status: Unutilized

Reason: Secured Area.

Bldg. 1600

Naval Training Center

Great Lakes Co: IL 60088-5000

Landholding Agency: Navy

Property Number: 77199920060

Status: Unutilized

Reason: Secured Area.

Bldg. 2600

Naval Training Center

Great Lakes Co: IL 60088-5000

Landholding Agency: Navy

Property Number: 77199920061

Status: Unutilized

Reason: Secured Area.

Indiana

Bldg. 3

Naval Surface Warfare

Naval Investigation Ofc.

Crane Co: Lawrence IN 47522-

Landholding Agency: Navy

Property Number: 77200010057

Status: Unutilized

Reasons: Within 2000 ft. of flammable or explosive material; Secured Area.

3 Bldgs.

Naval Surface Warfare

157, 166, 171

Crane Co: Lawrence IN 47522-

Landholding Agency: Navy

Property Number: 77200010058

Status: Unutilized

Reasons: Within 2000 ft. of flammable or explosive material; Secured Area.

3 Bldgs.

Naval Surface Warfare

#22, 2792, 2794

Crane Co: Lawrence IN 47522-

Landholding Agency: Navy

Property Number: 77200010059

Status: Unutilized

Reasons: Within 2000 ft. of flammable or explosive material; Secured Area.

3 Bldgs.

Naval Surface Warfare

#158, 167, 172

Crane Co: Lawrence IN 47522-

Landholding Agency: Navy

Property Number: 77200010060

Status: Unutilized

Reasons: Within 2000 ft. of flammable or explosive material; Secured Area.

Bldgs. 162, 163

Naval Surface Warfare

Crane Co: Lawrence IN 47522-

Landholding Agency: Navy

Property Number: 77200010061

Status: Unutilized

Reasons: Within 2000 ft. of flammable or explosive material; Secured Area.

Bldgs. 169D, 169E

Naval Surface Warfare

Crane Co: Lawrence IN 47522-

Landholding Agency: Navy

Property Number: 77200010062

Status: Unutilized

Reasons: Within 2000 ft. of flammable or explosive material; Secured Area.

4 Bldgs.

Naval Surface Warfare

#173, 2171, 2172, 2179

Crane Co: Lawrence IN 47522-

Landholding Agency: Navy

Property Number: 77200010063

Status: Unutilized

Reasons: Within 2000 ft. of flammable or explosive material; Secured Area.

5 Bldgs.

Naval Surface Warfare

#2174, 2175, 2176, 2193, 2784

Crane Co: Lawrence IN 47522-

Landholding Agency: Navy

Property Number: 77200010064

Status: Unutilized

Reasons: Within 2000 ft. of flammable or explosive material; Secured Area.

Bldgs. 2500, 2501

Naval Surface Warfare

Crane Co: Lawrence IN 47522-

Landholding Agency: Navy

Property Number: 77200010065

Status: Unutilized

Reasons: Within 2000 ft. of flammable or explosive material; Secured Area.

3 Bldgs.

Naval Surface Warfare

#2502, 2503, 2715

Crane Co: Lawrence IN 47522-

Landholding Agency: Navy

Property Number: 77200010066

Status: Unutilized

Reasons: Within 2000 ft. of flammable or explosive material; Secured Area.

10 Bldgs.

Naval Surface Warfare

#2803, 2855-2863

Crane Co: Lawrence IN 47522-

Landholding Agency: Navy

Property Number: 77200010067

Status: Unutilized

Reasons: Within 2000 ft. of flammable or explosive material; Secured Area.

Bldgs. 2905, 3074

Naval Surface Warfare

Crane Co: Lawrence IN 47522-

Landholding Agency: Navy

Property Number: 77200010068

Status: Unutilized

Reasons: Within 2000 ft. of flammable or explosive material; Secured Area.

Bldg. 21, VA Medical Center

East 38th Street

Marion Co: Grant IN 46952-

Landholding Agency: VA

Property Number: 97199230001

Status: Excess

Reason: Extensive deterioration.

Bldg. 22, VA Medical Center

East 38th Street

Marion Co: Grant IN 46952-

Landholding Agency: VA

Property Number: 97199230002

Status: Excess

Reason: Extensive deterioration.

Bldg. 62, VA Medical Center

East 38th Street

Marion Co: Grant IN 46952-

Landholding Agency: VA

Property Number: 97199230003

Status: Excess

Reason: Extensive deterioration.

Kansas

Sunflower AAP

DeSoto Co: Johnson KS 66018-

Landholding Agency: GSA

Property Number: 54199830010

Status: Excess

Reason: Extensive deterioration.

GSA Number: 7-D-KS-0581.

Maine

Aircraft Hangar #2

Naval Air Station

Brunswick Co: Cumberland ME 04011-

Landholding Agency: Navy

Property Number: 77199810015

Status: Excess

Reason: Extensive deterioration.

Bldg. 13

Naval Air Station

Brunswick Co: Cumberland ME 04011-

Landholding Agency: Navy

Property Number: 77199840005

Status: Excess

Reason: Extensive deterioration.

Bldg. 15

Naval Air Station

Brunswick Co: Cumberland ME 04011-

Landholding Agency: Navy

Property Number: 77199840006

Status: Excess

Reason: Extensive deterioration.

Bldg. 16

Naval Air Station

Brunswick Co: Cumberland ME 04011-

Landholding Agency: Navy

Property Number: 77199840007

Status: Excess

Reason: Extensive deterioration.

Bldg. 90

Naval Security Group Activity

Winter Harbor Co: ME 00000-

Landholding Agency: Navy

Property Number: 77200020098

Status: Excess

Reason: Extensive deterioration.

Maryland

15 Bldgs.

Naval Air Warfare Center

Patuxent River Co: St. Mary's MD 20670-5304

Landholding Agency: Navy

Property Number: 77199730062

Status: Unutilized

Reason: Extensive deterioration.

Bldg. 163

Naval Surface Warfare Center

Carderock Division

West Bethesda Co: Montgomery MD 20817-5700

Landholding Agency: Navy

Property Number: 77200010033

Status: Unutilized

Reason: Extensive deterioration.

Massachusetts

Frederick Murphy Federal Ctr

424 Trapelo Road

Waltham Co: MA 00000-

Landholding Agency: GSA

Property Number: 54199920005

Status: Surplus

Reason: Extensive deterioration.

GSA Number: 1-G-MA-0848.

Westview Street Wells

Lexington Co: MA 02173-

Landholding Agency: VA

Property Number: 97199920001

Status: Unutilized

Reason: Extensive deterioration.

Michigan

15 Offshore Lighthouses

Great Lakes MI

Landholding Agency: GSA

Property Number: 54199630014

Status: Excess

Reason: Extensive deterioration.

Parcel 14, Boat House

East Tawas Co: Iosco MI

Landholding Agency: GSA

Property Number: 54199730014

Status: Excess

Reason: Extensive deterioration.

GSA Number: 1-U-MI-500

Round Island Passage Light

Lake Huron

Lake Huron Co: Mackinac MI

Landholding Agency: GSA

Property Number: 54199730019

Status: Excess

Reason: Inaccessible.

GSA Number: 1-U-MI-444B.

Tract 100-1

Calumet Air Force Station

Calumet Co: Keweenaw MI 49913-

Landholding Agency: GSA

Property Number: 54199840003

Status: Excess

Reason: No legal access

GSA Number: 1-D-MI-659A.

Tracts 100-2, 100-3

Calumet Air Force Station

Calumet Co: Keweenaw MI 49913-

Landholding Agency: GSA

Property Number: 54199840004

Status: Excess

Reason: No legal access

GSA Number: 1-D-MI-659A.

Federal Bldg.

Benton Harbor 174/5 Territorial Road

Benton Harbor Co: Berrien MI 49022-

Landholding Agency: GSA

Property Number: 54200020003

Status: Excess

Reason: Within 2000 ft. of flammable or explosive material.

GSA Number: 1-G-MI-796.

Navy Housing

64 Barberry Drive

Springfield Co: Calhoun MI 49015-

Landholding Agency: GSA

Property Number: 54200020013

Status: Excess

Reason: Within 2000 ft. of flammable or explosive material.

GSA Number: 1-N-MI-795.

Stroh Army Reserve Center

17825 Sherwood Ave.

Detroit Co: Wayne MI 00000-

Landholding Agency: GSA

Property Number: 54200040001

Status: Surplus

Reason: Within 2000 ft. of flammable or explosive material.

GSA Number: 1-D-MI-798.

Minnesota

Naval Ind. Rsv Ordnance Plant

Minneapolis Co: MN 55421-1498

Landholding Agency: GSA

Property Number: 54199930004

Status: Excess

Reason: Within 2000 ft. of flammable or explosive material.

GSA Number: 1-N-MN-570.

Nike Battery Site, MS-40

Castle Rock Township

Farmington Co: Dakota MN 00000-

Landholding Agency: GSA

Property Number: 54200020004

Status: Surplus

Reason: Within 2000 ft. of flammable or explosive material.

GSA Number: 1-I-MN-451-B.

Mississippi

Bldg. 78

Naval Construction Battalion Center

Gulfport Co: Harrison MS 39501-5001

Landholding Agency: Navy

Property Number: 77199830047

Status: Unutilized

Reasons: Secured Area; Extensive deterioration.

Bldg. 113

Naval Construction Battalion Center

Gulfport Co: Harrison MS 39501-5001

Landholding Agency: Navy

Property Number: 77199830048

Status: Unutilized

Reasons: Secured Area; Extensive deterioration.

Bldg. 147

Naval Construction Battalion Center

Gulfport Co: Harrison MS 39501-5001

Landholding Agency: Navy

Property Number: 77199830049

Status: Unutilized

Reasons: Secured Area; Extensive deterioration.

Bldg. 187

Naval Construction Battalion Center

Gulfport Co: Harrison MS 39501-5001

Landholding Agency: Navy

Property Number: 77199830050

Status: Unutilized

Reasons: Secured Area; Extensive deterioration.

Bldg. 7

Construction Battalion Center

Gulfport Co: Harrison MS 39501-

Landholding Agency: Navy

Property Number: 77199930010

Status: Unutilized

Reasons: Secured Area; Extensive deterioration.

Bldg. 75

Construction Battalion Center

Gulfport Co: Harrison MS 39501-

Landholding Agency: Navy

Property Number: 77199930011

Status: Unutilized

Reasons: Secured Area; Extensive deterioration.

Bldg. 179

Construction Battalion Center

Gulfport Co: Harrison MS 39501-

Landholding Agency: Navy

Property Number: 77199930012

Status: Unutilized

Reasons: Secured Area; Extensive deterioration.

Structure 262

Construction Battalion Center

Gulfport Co: Harrison MS 39501-

Landholding Agency: Navy

Property Number: 77199930013

Status: Unutilized

Reason: Secured Area.

Bldg. 279

Construction Battalion Center

Gulfport Co: Harrison MS 39501-

Landholding Agency: Navy

Property Number: 77199930014

Status: Unutilized

Reasons: Secured Area; Extensive deterioration.

Bldg. 326

Construction Battalion Center

Gulfport Co: Harrison MS 39501-

Landholding Agency: Navy

Property Number: 77199930015

Status: Unutilized

Reasons: Secured Area; Extensive deterioration.

Bldg. 412

Construction Battalion Center

Gulfport Co: Harrison MS 39501-

Landholding Agency: Navy

Property Number: 77199930016

Status: Unutilized

Reasons: Secured Area; Extensive deterioration.

Bldg. 49

CBC Gulfport

Gulfport Co: Harrison MS 39501-

Landholding Agency: Navy

Property Number: 77200010024

Status: Unutilized

Reasons: Secured Area; Extensive deterioration.

Bldg. 130

CBC Gulfport

Gulfport Co: Harrison MS 39501-

Landholding Agency: Navy

Property Number: 77200010025

Status: Unutilized

Reasons: Secured Area; Extensive deterioration.

Bldg. 368

CBC Gulfport

Gulfport Co: Harrison MS 39501-

Landholding Agency: Navy

Property Number: 77200010026

Status: Unutilized

Reasons: Secured Area; Extensive deterioration.

Bldg. 390

CBC Gulfport

Gulfport Co: Harrison MS 39501-

Landholding Agency: Navy

Property Number: 77200010027

Status: Unutilized

Reasons: Secured Area; Extensive deterioration.

Bldg. 43

Construction Battalion Center

Gulfport Co: Harrison MS 39501-

Landholding Agency: Navy

Property Number: 77200030076

Status: Unutilized

Reasons: Secured Area; Extensive deterioration.

Bldg. 44

Construction Battalion Center

Gulfport Co: Harrison MS 39501-

Landholding Agency: Navy

Property Number: 77200030077

Status: Unutilized

Reasons: Secured Area; Extensive deterioration.

Bldg. 164

Construction Battalion Center

Gulfport Co: Harrison MS 39501-

Landholding Agency: Navy

Property Number: 77200030078

Status: Unutilized

Reasons: Secured Area; Extensive deterioration.

Bldg. 6, Boiler Plant

Biloxi VA Medical Center

Gulfport Co: Harrison MS 39531-

Landholding Agency: VA

Property Number: 97199410001

Status: Unutilized

Reason: Floodway.

Bldg. 67

Biloxi VA Medical Center

Gulfport Co: Harrison MS 39531-

Landholding Agency: VA

Property Number: 97199410008

Status: Unutilized

Reason: Extensive deterioration.

Bldg. 68

Biloxi VA Medical Center

Gulfport Co: Harrison MS 39531-

Landholding Agency: VA

Property Number: 97199410009

Status: Unutilized

Reason: Extensive deterioration.

Missouri

Steam Line/Support Structure

Marine Corps Support Activity

Kansas City Co: Jackson MO 64147-

Landholding Agency: Navy

Property Number: 77200030017

Status: Unutilized

Reason: Extensive deterioration.

Nevada

Former Weather Service Office

Winnemucca Airport

Winnemucca Co: Humbolt NV 89445-

Landholding Agency: GSA

Property Number: 54199810001

Status: Excess

Reason: Within airport runway clear zone.

GSA Number: 9-C-NV-509.

6 Bldgs.

Dale Street Complex

300, 400, 500, 600, Block Bldg, Valve House

Boulder City Co: NV 89005-

Landholding Agency: GSA

Property Number: 54200020017

Status: Excess

Reason: Extensive deterioration

GSA Number: LC-00-01-RP.

New Hampshire

Bldg. 89

Portsmouth Naval Shipyard

Portsmouth NH 03804-5000

Landholding Agency: Navy

Property Number: 77199830086

Status: Unutilized

Reason: Secured Area.

Bldg. 99

Portsmouth Naval Shipyard

Portsmouth NH 03804-5000

Landholding Agency: Navy

Property Number: 77199830088

Status: Unutilized

Reason: Secured Area.

Bldg. 115

Portsmouth Naval Shipyard

Portsmouth NH 03804-5000

Landholding Agency: Navy

Property Number: 77199830089

Status: Unutilized

Reason: Secured Area.

Bldg. 178

Portsmouth Naval Shipyard

Portsmouth NH 03804-5000

Landholding Agency: Navy

Property Number: 77199830090

Status: Unutilized

Reason: Secured Area.

Bldg. 298

Portsmouth Naval Shipyard

Portsmouth NH 03804-5000

Landholding Agency: Navy

Property Number: 77199830091

Status: Unutilized

Reasons: Within 2000 ft. of flammable or explosive material; Secured Area.

Bldg. H-21

Portsmouth Naval Shipyard

Portsmouth NH 03804-5000

Landholding Agency: Navy

Property Number: 77199830092

Status: Unutilized

Reasons: Within 2000 ft. of flammable or explosive material; Secured Area.

Dry Dock 1

Portsmouth Naval Shipyard

Portsmouth NH 03804-5000

Landholding Agency: Navy

Property Number: 77199840012

Status: Underutilized

Reason: Secured Area.

Dry Dock 3

Portsmouth Naval Shipyard

Portsmouth NH 03804-5000

Landholding Agency: Navy

Property Number: 77199840013

Status: Underutilized

Reason: Secured Area.

Berth 2

Portsmouth Naval Shipyard

Portsmouth NH 03804-5000

Landholding Agency: Navy

Property Number: 77199840014

Status: Underutilized

Reason: Secured Area.

Berth 11

Portsmouth Naval Shipyard

Portsmouth NH 03804-5000

Landholding Agency: Navy

Property Number: 77199840015

Status: Underutilized

Reason: Secured Area.

Parcel #1

Portsmouth Naval Shipyard

Portsmouth Co: NH 03804-5000

Landholding Agency: Navy

Property Number: 77199910002

Status: Underutilized

Reasons: Within 2000 ft. of flammable or explosive material; Secured Area.

Parcel #2

Portsmouth Naval Shipyard

Portsmouth Co: NH 03804-5000

Landholding Agency: Navy

Property Number: 77199910003

Status: Underutilized

Reasons: Within 2000 ft. of flammable or explosive material; Secured Area.

Parcel #3

Portsmouth Naval Shipyard

Portsmouth Co: NH 03804-5000

Landholding Agency: Navy

Property Number: 77199910004

Status: Underutilized

Reasons: Within 2000 ft. of flammable or explosive material; Extensive deterioration.

Bldg. 55

Portsmouth Naval Shipyard

Portsmouth Co: NH 03804-5000

Landholding Agency: Navy

Property Number: 77199940020

Status: Unutilized

Reason: Secured Area.

Bldg. 150

Portsmouth Naval Shipyard

Portsmouth Co: NH 03804-5000

Landholding Agency: Navy

Property Number: 77199940021

Status: Unutilized

Reason: Secured Area.

New Jersey

Telephone Repeater Site

U.S. Coast Guard

Monmouth Beach Co: Monmouth Beach NJ 07750-

Landholding Agency: GSA

Property Number: 54199910001

Status: Excess

Reason: Extensive deterioration

GSA Number: 1-U-NJ-628.

Parcel A-1, Bldg. 228

Raritan Center

2890 Woodbridge Avenue

Edison Co: NJ 08837-

Landholding Agency:

GSA

Property Number: 54200020009

Status: Excess

Reasons: landlocked; Extensive deterioration

GSA Number: 1-Z-NJ-440-O.

Bldg. 188

Naval Air Engineering Station

Lakehurst Co: Ocean NJ 08733-5000

Landholding Agency: Navy

Property Number: 77199830065

Status: Unutilized

Reason: Extensive deterioration.

Bldg. 473

Naval Air Engineering Station

Lakehurst Co: Ocean NJ 08733-5000

Landholding Agency: Navy

Property Number: 77199920024

Status: Unutilized

Reason: Extensive deterioration.

Bldg. 474

Naval Air Engineering Station

Lakehurst Co: Ocean NJ 08733-5000

Landholding Agency: Navy

Property Number: 77199920025

Status: Unutilized

Reason: Extensive deterioration.

Bldgs. 220, 234, 236

Naval Air Engineering Station

Lakehurst Co: Ocean NJ 08733-5000

Landholding Agency: Navy

Property Number: 77199930017

Status: Unutilized

Reason: Extensive deterioration.

28 Sheds

Naval Weapons Station

Colts Neck Co: NJ 07722-

Landholding Agency: Navy

Property Number: 77199940026

Status: Unutilized

Reason: Extensive deterioration.

Bldg. FA-1

Naval Weapons Station

Colts Neck Co: Earle NJ 07722-

Landholding Agency: Navy

Property Number: 77200010008

Status: Unutilized

Reason: Extensive deterioration.

Bldg. GB-1

Naval Weapons Station

Colts Neck Co: Earle NJ 07722-

Landholding Agency: Navy

Property Number: 77200010009

Status: Unutilized

Reason: Extensive deterioration.

Bldg. R-18

Naval Weapons Station

Colts Neck Co: Earle NJ 07722-

Landholding Agency: Navy

Property Number: 77200010010

Status: Unutilized

Reason: Extensive deterioration.

Bldg. S-62

Naval Weapons Station

Colts Neck Co: Earle NJ 07722-

Landholding Agency: Navy

Property Number: 77200010011

Status: Unutilized

Reason: Extensive deterioration.

Bldg. S-412

Naval Weapons Station

Colts Neck Co: Earle NJ 07722-

Landholding Agency: Navy

Property Number: 77200010012

Status: Unutilized

Reason: Extensive deterioration.

Bldg. S-457

Naval Weapons Station

Colts Neck Co: Earle NJ 07722-

Landholding Agency: Navy

Property Number: 77200010013

Status: Unutilized

Reason: Extensive deterioration.

Bldg. 1042

Naval Air Eng. Station

Lakehurst Co: Ocean NJ 08733-5000

Landholding Agency: Navy

Property Number: 77200040039

Status: Unutilized

Reason: Extensive deterioration.

Hangar 1

Naval Air Engineering Station

Lakehurst Co: Ocean NJ 08733-5000

Landholding Agency: Navy

Property Number: 77200110101

Status: Underutilized

Reason: Secured Area.

Bldg. B-33

Naval Air Engineering Station

Lakehurst Co: Ocean NJ 08733-5000

Landholding Agency: Navy

Property Number: 77200110102

Status: Underutilized

Reason: Secured Area.

Bldg. B-487A

Naval Air Engineering Station

Lakehurst Co: Ocean NJ 08733-5000

Landholding Agency: Navy

Property Number: 77200110103

Status: Excess

Reason: Secured Area.

New Mexico

Bldg. N149

Naval Air Warfare

White Sands Co: NM 88002-

Landholding Agency: Navy

Property Number: 77200110104

Status: Excess

Reason: Extensive deterioration.

New York

Offshore Lighthouses

Great Lakes NY

Landholding Agency: GSA

Property Number: 54199630015

Status: Excess

Reason: Extensive deterioration.

North Carolina

Structure 7

Marine Corps Air Station

Cherry Point

Havelock Co: Craven NC 28533-

Landholding Agency: Navy

Property Number: 77200110105

Status: Unutilized

Reason: Extensive deterioration.

Structure 103

Marine Corps Air Station

Cherry Point

Havelock Co: Craven NC

Landholding Agency: Navy

Property Number: 77200110106

Status: Unutilized

Reason: Extensive deterioration.

Structure 110

Marine Corps Air Station

Cherry Point

Havelock Co: Craven NC 28533-

Landholding Agency: Navy

Property Number: 77200110107

Status: Unutilized

Reason: Extensive deterioration.

Structure 115

Marine Corps Air Station

Cherry Point

Havelock Co: Craven NC 28533-

Landholding Agency: Navy

Property Number: 77200110108

Status: Unutilized

Reason: Extensive deterioration.

Structure 1099

Marine Corps Air Station

Cherry Point

Havelock Co: Craven NC 28533-

Landholding Agency: Navy

Property Number: 77200110109

Status: Unutilized

Reason: Extensive deterioration.

Structure 3990

Marine Corps Air Station

Cherry Point

Havelock Co: Craven NC 28533-

Landholding Agency: Navy

Property Number: 77200110110

Status: Unutilized

Reason: Extensive deterioration.

Structure 8040

Marine Corps Air Station

Cherry Point

Havelock Co: Craven NC 28533-

Landholding Agency: Navy

Property Number: 77200110111

Status: Unutilized

Reason: Extensive deterioration.

Structure 8050

Marine Corps Air Station

Cherry Point

Havelock Co: Craven NC 28533-

Landholding Agency: Navy

Property Number: 77200110112

Status: Unutilized

Reason: Extensive deterioration.

Structure 8077

Marine Corps Air Station

Cherry Point

Havelock Co: Craven NC 28533-

Landholding Agency: Navy

Property Number: 77200110113

Status: Unutilized

Reason: Extensive deterioration.

Bldg. TC462

Marine Corps Base

Camp Lejeune Co: Onslow NC 28542-0004

Landholding Agency: Navy

Property Number: 77200110114

Status: Excess

Reason: Secured Area.

Bldg. TC817

Marine Corps Base

Camp Lejeune Co: Onslow NC 28542-0004

Landholding Agency: Navy

Property Number: 77200110115

Status: Excess.

Reason: Secured Area.

Bldg. 202

Marine Corps Base

Camp Lejeune Co: Onslow NC 28542-0004

Landholding Agency: Navy

Property Number: 77200110116

Status: Excess

Reason: Secured Area.

Bldg. 206

Marine Corps Base

Camp Lejeune Co: Onslow NC 28542-0004

Landholding Agency: Navy

Property Number: 77200110117

Status: Excess

Reason: Secured Area.

Bldg. 9

VA Medical Center

1100 Tunnel Road

Asheville Co: Buncombe NC 28805-

Landholding Agency: VA

Property Number: 97199010008

Status: Unutilized

Reason: Extensive deterioration.

Ohio

Toledo Harbor Lighthouse

Lake Erie

Toledo Co: Lucas OH 43611-

Landholding Agency: GSA

Property Number: 54199710014

Status: Excess

Reason: Inaccessible

GSA Number: 1-U-OH-801.

Toledo Federal Building

234 Summit Avenue

Toledo Co: Lucas OH 43604-

Landholding Agency: GSA

Property Number: 54199810014

Status: Excess

Reason: Within 2000 ft. of flammable or explosive material

GSA Number: 1-G-H-804.

Bldg. 116

VA Medical Center

Dayton Co: Montgomery OH 45428-

Landholding Agency: VA

Property Number: 97199920002

Status: Unutilized

Reason: Extensive deterioration.

Bldg. 402

VA Medical Center

Dayton Co: Montgomery OH 45428-

Landholding Agency: VA

Property Number: 97199920004

Status: Unutilized

Reason: Extensive deterioration.

Bldg. 105

VA Medical Center

Dayton Co: Montgomery OH 45428-

Landholding Agency: VA

Property Number: 97199920005

Status: Unutilized

Reason: Extensive deterioration.

Oregon

Portion, Former Kingsley Field

Air Force Base

Arnold Ave. & Joe Wright Rd.

Klamath Falls Co: Klamath OR 97603-

Landholding Agency: GSA

Property Number: 54199810003

Status: Unutilized

Reason: Within 2000 ft. of flammable or explosive material

GSA Number: 10-D-OR-434-J.

Troutdale Materials Lab

Troutdale Co: Multnomah OR 97060-9501

Landholding Agency: GSA

Property Number: 54199830009

Status: Surplus

Reason: Within 2000 ft. of flammable or explosive material

GSA Number: 9-D-OR-729.

Pennsylvania

Bldg. 524

Naval Systems Engineering Station

Philadelphia PA 19112-

Landholding Agency: Navy

Property Number: 77199830023

Status: Unutilized

Reason: Extensive deterioration.

Bldg. 152

Naval Air Station Willow Grove

Willow Grove Co: Montgomery PA 19113-

Landholding Agency: Navy

Property Number: 77199930018

Status: Excess

Reason: Extensive deterioration.

Bldg. 185

Naval Air Station Willow Grove

Willow Grove Co: Montgomery PA 19113-

Landholding Agency: Navy

Property Number: 77199930019

Status: Excess

Reason: Extensive deterioration.

Bldg. 603

Naval Support Station

Mechanicsburg Co: Cumberland PA 17055-0788

Landholding Agency: Navy

Property Number: 77199940015

Status: Unutilized

Reason: Extensive deterioration.

Facility 22

Naval Support Station

Philadelphia Co: PA 19111-5098

Landholding Agency: Navy

Property Number: 77199940060

Status: Excess

Reason: Extensive deterioration.

Bldg. 85

Naval Support Activity

Philadelphia Co: PA 19111-5098

Landholding Agency: Navy

Property Number: 77200010021

Status: Unutilized

Reason: Extensive deterioration.

Bldg. 9

Navy Surface Warfare Center

Philadelphia Co: PA 19112-

Landholding Agency: Navy

Property Number: 77200030066

Status: Unutilized

Reason: Extensive deterioration.

Bldg. 51

Navy Surface Warfare Center

Philadelphia Co: PA 19112-

Landholding Agency: Navy

Property Number: 77200030067

Status: Unutilized

Reason: Extensive deterioration.

Bldg. 52

Navy Surface Warfare Center

Philadelphia Co: PA 19112-

Landholding Agency: Navy

Property Number: 77200030068

Status: Unutilized

Reason: Extensive deterioration.

Bldg. 84

Navy Surface Warfare Center

Philadelphia Co: PA 19112-

Landholding Agency: Navy

Property Number: 77200030069

Status: Unutilized

Reason: Extensive deterioration.

Bldg. 950

Navy Surface Warfare Center

Philadelphia Co: PA 19112-

Landholding Agency: Navy

Property Number: 77200030070

Status: Unutilized

Reason: Extensive deterioration.

Puerto Rico

Dry Dock & Ship Repair Fac.

U.S. Navy

San Juan PR

Landholding Agency: GSA

Property Number: 54199710012

Status: Excess

Reasons: Within 2000 ft. of flammable or explosive material; Floodway

GSA Number: 1-N-PR-491.

B-38

Naval Station Roosevelt Roads

Ceiba PR 00735-

Landholding Agency: Navy

Property Number: 77199830075

Status: Unutilized

Reason: Extensive deterioration.

Rhode Island

Bldg. 52

Gould Island, Naval Station

Newport Co: RI 00000-

Landholding Agency: Navy

Property Number: 77199930020

Status: Excess

Reasons: Not accessible by road; Extensive deterioration.

South Carolina

Bldg. 49

Naval Public Works Center

Goose Creek Co: Berkeley SC 29445-

Landholding Agency: Navy

Property Number: 77200020062

Status: Unutilized

Reasons: Secured Area; Extensive deterioration.

Bldg. 38

Naval Air Station

Goose Creek Co: Berkeley SC 29445-

Landholding Agency: Navy

Property Number: 77200020105

Status: Unutilized

Reasons: Secured Area; Extensive deterioration

4 Industrial Bldgs.

Naval Weapons Station Charleston

88, 92, 94, 354

Goose Creek Co: Berkeley SC 29445-

Landholding Agency: Navy

Property Number: 77200020113

Status: Unutilized

Reasons: Within 2000 ft. of flammable or explosive material; Secured Area.

4 Heat Plant Bldgs.

Naval Weapons Station Charleston

89, 95, 355, 438

Goose Creek Co: Berkeley SC 29445-

Landholding Agency: Navy

Property Number: 77200020114

Status: Unutilized

Reasons: Within 2000 ft. of flammable or explosive material; Secured Area.

8 Security Bldgs.

Naval Weapons Station Charleston 313, 859, 860, 897, 918, 1654, 1655, 3217

Goose Creek Co: Berkeley SC 29445-

Landholding Agency: Navy

Property Number: 77200020115

Status: Unutilized

Reasons: Within 2000 ft. of flammable or explosive material; Secured Area.

8 Storage Bldgs.

Naval Weapons Station Charleston

307, 353, 799, 831, 861, 933, 984, 994

Goose Creek Co: Berkeley SC 29445-

Landholding Agency: Navy

Property Number: 77200020116

Status: Unutilized

Reasons: Within 2000 ft. of flammable or explosive material; Secured Area.

6 Bldgs.

Naval Weapons Station Charleston

183, 855, 868, 968, 3238, 408

Goose Creek Co: Berkeley SC 29445-

Landholding Agency: Navy

Property Number: 77200020117

Status: Unutilized

Reasons: Within 2000 ft. of flammable or explosive material; Secured Area.

Bldg. 2012

Naval Weapons Station

Charleston

Goose Creek Co: Berkeley SC 29445-

Landholding Agency: Navy

Property Number: 77200030057

Status: Excess

Reason: Extensive deterioration.

Bldg. 7

Naval Weapons Station

Goose Creek Co: Berkeley SC 29445-

Landholding Agency: Navy

Property Number: 77200040030

Status: Unutilized

Reason: Secured Area.

Bldg. 314

Naval Weapons Station

Goose Creek Co: Berkeley SC 29445-

Landholding Agency: Navy

Property Number: 77200040031

Status: Unutilized

Reason: Secured Area.

Bldg. 316

Naval Weapons Station

Goose Creek Co: Berkeley SC 29445-

Landholding Agency: Navy

Property Number: 77200040032

Status: Unutilized

Reason: Secured Area.

Tennessee

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number: 4-D-TN-594F.

17 Bldgs.

Volunteer Army Ammunition Plant

Acid Production

Chattanooga Co: Hamilton TN 37421-

Landholding Agency: GSA

Property Number: 54199930017

Status: Surplus

Reasons: Within 2000 ft. of flammable or explosive material contamination

GSA Number: 4-D-TN-594F.

41 Facilities

Volunteer Army Ammunition Plant

TNT Production

Chattanooga Co: Hamilton TN 37421-

Landholding Agency: GSA

Property Number: 54199930018

Status: Surplus

Reason: Contamination

GSA Number: 4-D-TN-594F.

5 Facilities

Volunteer Army Ammunition Plant

Waste Water Treatment

Chattanooga Co: Hamilton TN 37421-

Landholding Agency: GSA

Property Number: 54199930019

Status: Surplus

Reason: Extensive deterioration

GSA Number: 4-D-TN-594F.

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F.

20 Bldgs.

Naval Support Activity

Millington Co: Shelby TN 38054-

Location: 766, 1597-1598, 5238, 435-446, S239, S75, 1211, 1379

Landholding Agency: Navy

Property Number: 77199940027

Status: Excess

Reasons: Secured Area; Extensive deterioration.

Texas

Station Port Mansfield

Port Mansfield Co: Willary TX 78598-

Landholding Agency: GSA

Property Number: 54199930008

Status: Surplus

Reason: Floodway

GSA Number: 7-U-TX-1057.

Portion-Port O'Connor Housing

1125 Brook Hollow Drive

Port Lavaca Co: Calhoun TX 77979-

Landholding Agency: GSA

Property Number: 54199940006

Status: Excess

Reason: Extensive deterioration

GSA Number: 7-U-TX-1056.

Bldgs. 1561, 1562, 1563

Naval Air Station Joint Reserve Base

Ft. Worth Co: Tarrant TX 76127-6200

Landholding Agency: Navy

Property Number: 77199820050

Status: Unutilized

Reasons: Secured Area; Extensive deterioration.

Bldg. 1190

Naval Air Station Joint Reserve Base

Ft. Worth Co: Tarrant TX 76127-6200

Landholding Agency: Navy

Property Number: 77199820053

Status: Unutilized

Reason: Secured Area.

Bldg. 1820

Naval Air Station Joint Reserve Base

Ft. Worth Co: Tarrant TX 76127-6200

Landholding Agency: Navy

Property Number: 77199820054

Status: Unutilized

Reasons: Secured Area; Extensive deterioration.

Facilities 105 and 105C

Naval Station

Corpus Christi Co: Nueces TX 78419-5021

Landholding Agency: Navy

Property Number: 77199910012

Status: Unutilized

Reason: Extensive deterioration.

Bldg. 101

Naval Air Station

Corpus Christi Co: Nueces TX 78419-5021

Landholding Agency: Navy

Property Number: 77199940052

Status: Excess

Reason: Extensive deterioration.

Bldg. 198

Naval Air Station

Corpus Christi Co: Nueces TX 78419-5021

Landholding Agency: Navy

Property Number: 77199940053

Status: Excess

Reason: Extensive deterioration.

Bldg. 1104

Naval Air Station

Corpus Christi Co: Nueces TX 78419-5021

Landholding Agency: Navy

Property Number: 77199940054

Status: Excess

Reason: Extensive deterioration.

Bldg. 1198

Naval Air Station

Corpus Christi Co: Nueces TX 78419-5021

Landholding Agency: Navy

Property Number: 77199940055

Status: Excess

Reason: Extensive deterioration.

Bldg. 1823

Naval Air Station

Corpus Christi Co: Nueces TX 78419-5021

Landholding Agency: Navy

Property Number: 77199940056

Status: Excess

Reason: Extensive deterioration.

Bldg. H-9

Naval Air Station

Corpus Christi Co: Nueces TX 78419-5021

Landholding Agency: Navy

Property Number: 77199940057

Status: Excess

Reason: Extensive deterioration.

Bldg. H-45

Naval Air Station

Corpus Christi Co: Nueces TX 78419-5021

Landholding Agency: Navy

Property Number: 77199940058

Status: Excess

Reason: Extensive deterioration.

Bldg. H-54

Naval Air Station

Corpus Christi Co: Nueces TX 78419-5021

Landholding Agency: Navy

Property Number: 77199940059

Status: Excess

Reason: Extensive deterioration.

Virginia

Bldg. O2

Naval Weapons Station

Yorktown Co: York VA 23691-Landholding

Agency: Navy

Property Number: 77199810073

Status: Excess

Reason: Extensive deterioration.

Bldg. 2208

Naval Medical Clinic

Quantico VA

Landholding Agency: Navy

Property Number: 77199820001

Status: Unutilized

Reason: Extensive deterioration.

Bldgs. 358, 359

Cheatham Annex

Williamsburg VA 23185-Landholding

Agency: Navy

Property Number: 77199820023

Status: Excess

Reason: Extensive deterioration.

Bldg. CAD-43

Cheatham Annex

Williamsburg VA 23185-Landholding

Agency: Navy

Property Number: 77199820024

Status: Excess

Reason: Extensive deterioration.

Bldg. CAD-102

Cheatham Annex

Williamsburg VA 23185-Landholding

Agency: Navy

Property Number: 77199820025

Status: Excess

Reason: Extensive deterioration.

Bldg. CAD-102A

Cheatham Annex

Williamsburg VA 23185-Landholding

Agency: Navy

Property Number: 77199820026

Status: Excess

Reason: Extensive deterioration.

Bldg. CAD-127

Cheatham Annex

Williamsburg VA 23185-Landholding

Agency: Navy

Property Number: 77199820027

Status: Excess

Reason: Extensive deterioration.

CAD-40

Cheatham Annex

Williamsburg VA 23185-Landholding

Agency: Navy

Property Number: 77199830084

Status: Unutilized

Reasons: Secured Area; Extensive deterioration.

Bldg. 3074

Marine Corps Base

Quantico Co: VA 22134-

Landholding Agency: Navy

Property Number: 77199920026

Status: Unutilized

Reason: Extensive deterioration.

Bldg. 449

Norfolk Naval Shipyard

Portsmouth Co: VA 23709-

Landholding Agency: Navy

Property Number: 77199920068

Status: Excess

Reason: Extensive deterioration.

Bldg. 450

Norfolk Naval Shipyard

Portsmouth Co: VA 23709-

Landholding Agency: Navy

Property Number: 77199920069

Status: Excess

Reason: Extensive deterioration.

Bldg. 451

Norfolk Naval Shipyard

Portsmouth Co: VA 23709-

Landholding Agency: Navy

Property Number: 77199920070

Status: Excess

Reason: Extensive deterioration.

Bldg. 453

Norfolk Naval Shipyard

Portsmouth Co: VA 23709-

Landholding Agency: Navy

Property Number: 77199920071

Status: Excess

Reason: Extensive deterioration.

Bldg. 454

Norfolk Naval Shipyard

Portsmouth Co: VA 23709-

Landholding Agency: Navy

Property Number: 77199920072

Status: Excess

Reason: Extensive deterioration.

Bldg. 708

Norfolk Naval Shipyard

Portsmouth Co: VA 23709-

Landholding Agency: Navy

Property Number: 77199920073

Status: Excess

Reason: Extensive deterioration.

Bldg. 709

Norfolk Naval Shipyard

Portsmouth Co: VA 23709-

Landholding Agency: Navy

Property Number: 77199920074

Status: Excess

Reason: Extensive deterioration.

Bldg. 710

Norfolk Naval Shipyard

Portsmouth Co: VA 23709-

Landholding Agency: Navy

Property Number: 77199920075

Status: Excess

Reason: Extensive deterioration.

Bldg. 711

Norfolk Naval Shipyard

Portsmouth Co: VA 23709-

Landholding Agency: Navy

Property Number: 77199920076

Status: Excess

Reason: Extensive deterioration.

Bldg. 712

Norfolk Naval Shipyard

Portsmouth Co: VA 23709-

Landholding Agency: Navy

Property Number: 77199920077

Status: Excess

Reason: Extensive deterioration.

Bldg. 713

Norfolk Naval Shipyard

Portsmouth Co: VA 23709-

Landholding Agency: Navy

Property Number: 77199920078

Status: Excess

Reason: Extensive deterioration.

Bldg. 714

Norfolk Naval Shipyard

Portsmouth Co: VA 23709-

Landholding Agency: Navy

Property Number: 77199920079

Status: Excess

Reason: Extensive deterioration.

Bldg. 715

Norfolk Naval Shipyard

Portsmouth Co: VA 23709-

Landholding Agency: Navy

Property Number: 77199920080

Status: Excess

Reason: Extensive deterioration.

Bldg. 716

Norfolk Naval Shipyard

Portsmouth Co: VA 23709-

Landholding Agency: Navy

Property Number: 77199920081

Status: Excess

Reason: Extensive deterioration.

Bldg. 717

Norfolk Naval Shipyard

Portsmouth Co: VA 23709-

Landholding Agency: Navy

Property Number: 77199920082

Status: Excess

Reason: Extensive deterioration.

Bldg. 718

Norfolk Naval Shipyard

Portsmouth Co: VA 23709-

Landholding Agency: Navy

Property Number: 77199920083

Status: Excess

Reason: Extensive deterioration.

Bldg. 1454

Norfolk Naval Shipyard

Portsmouth Co: VA 23709-

Landholding Agency: Navy

Property Number: 77199920084

Status: Excess

Reason: Extensive deterioration.

Bldg. 3170

Marine Corps Base

Quantico Co: VA 22134-

Landholding Agency: Navy

Property Number: 77199940064

Status: Unutilized

Reason: Extensive deterioration.

Bldgs. 1252, 1277

Marine Corps Base

Quantico Co: VA 22134-

Landholding Agency: Navy

Property Number: 77199940065

Status: Unutilized

Reason: Extensive deterioration.

Bldg. 7

Naval Weapons Station

Yorktown Co: VA 23691-

Landholding Agency: Navy

Property Number: 77200020009

Status: Unutilized

Reasons: Within 2000 ft. of flammable or explosive material; Secured Area.

Bldg. 12

Naval Weapons Station

Yorktown Co: VA 23691-

Landholding Agency: Navy

Property Number: 77200020010

Status: Unutilized

Reasons: Within 2000 ft. of flammable or explosive material; Secured Area; Extensive deterioration.

Bldg. 24

Naval Weapons Station

Yorktown Co: VA 23691-

Landholding Agency: Navy

Property Number: 77200020011

Status: Unutilized

Reasons: Within 2000 ft. of flammable or explosive material; Secured Area.

Bldg. 34

Naval Weapons Station

Yorktown Co: VA 23691-

Landholding Agency: Navy

Property Number: 77200020012

Status: Unutilized

Reasons: Within 2000 ft. of flammable or explosive material; Secured Area; Extensive deterioration.

Bldg. 108

Naval Weapons Station

Yorktown Co: VA 23691-

Landholding Agency: Navy

Property Number: 77200020013

Status: Unutilized

Reasons: Within 2000 ft. of flammable or explosive material; Secured Area; Extensive deterioration.

Bldg. 299

Naval Weapons Station

Yorktown Co: VA 23691-

Landholding Agency: Navy

Property Number: 77200020014

Status: Unutilized

Reasons: Within 2000 ft. of flammable or explosive material; Secured Area; Extensive deterioration.

Bldg. 400

Naval Weapons Station

Yorktown Co: VA 23691-

Landholding Agency: Navy

Property Number: 77200020015

Status: Unutilized

Reasons: Within 2000 ft. of flammable or explosive material; Secured Area; Extensive deterioration.

Bldg. 436

Naval Weapons Station

Yorktown Co: VA 23691-

Landholding Agency: Navy

Property Number: 77200020016

Status: Unutilized

Reasons: Within 2000 ft. of flammable or explosive material; Secured Area; Extensive deterioration.

Bldgs. 442, 443

Naval Weapons Station

Yorktown Co: VA 23691-

Landholding Agency: Navy

Property Number: 77200020017

Status: Unutilized

Reasons: Within 2000 ft. of flammable or explosive material; Secured Area; Extensive deterioration.

Bldg. 530

Naval Weapons Station

Yorktown Co: VA 23691-

Landholding Agency: Navy

Property Number: 77200020018

Status: Unutilized

Reasons: Within 2000 ft. of flammable or explosive material; Secured Area; Extensive deterioration.

Bldg. 532

Naval Weapons Station

Yorktown Co: VA 23691-

Landholding Agency: Navy

Property Number: 77200020019

Status: Unutilized

Reasons: Within 2000 ft. of flammable or explosive material; Secured Area; Extensive deterioration.

Bldgs. 646-651

Naval Weapons Station

Yorktown Co: VA 23691-

Landholding Agency: Navy

Property Number: 77200020020

Status: Unutilized

Reasons: Within 2000 ft. of flammable or explosive material; Secured Area; Extensive deterioration.

Bldgs. 758, 759

Naval Weapons Station

Yorktown Co: VA 23691-

Landholding Agency: Navy

Property Number: 77200020021

Status: Unutilized

Reasons: Within 2000 ft. of flammable or explosive material; Secured Area; Extensive deterioration.

Bldg. 764

Naval Weapons Station

Yorktown Co: VA 23691-

Landholding Agency: Navy

Property Number: 77200020022

Status: Unutilized

Reasons: Within 2000 ft. of flammable or explosive material; Secured Area; Extensive deterioration.

Bldg. 784

Naval Weapons Station

Yorktown Co: VA 23691-

Landholding Agency: Navy

Property Number: 77200020023

Status: Unutilized

Reasons: Within 2000 ft. of flammable or explosive material; Secured Area; Extensive deterioration.

Bldg. 786

Naval Weapons Station Yorktown

Yorktown Co: VA 23691-

Landholding Agency: Navy

Property Number: 77200020024

Status: Unutilized

Reasons: Within 2000 ft. of flammable or explosive material; Secured Area; Extensive deterioration.

Bldg. 788

Naval Weapons Station

Yorktown Co: VA 23691

Landholding Agency: Navy

Property Number: 77200020025

Status: Unutilized

Reasons: Within 2000 ft. of flammable or explosive material; Secured Area; Extensive deterioration.

Bldg. 790

Naval Weapons Station

Yorktown Co: VA 23691-

Landholding Agency: Navy

Property Number: 77200020026

Status: Unutilized

Reasons: Within 2000 ft. of flammable or explosive material; Secured Area; Extensive deterioration.

Bldg. 814

Naval Weapons Station

Yorktown Co: VA 23691-

Landholding Agency: Navy

Property Number: 77200020027

Status: Unutilized

Reasons: Within 2000 ft. of flammable or explosive material; Secured Area; Extensive deterioration.

Bldgs. 1955-1957

Naval Weapons Station

Yorktown Co: VA 23691-

Landholding Agency: Navy

Property Number: 77200020028

Status: Unutilized

Reasons: Within 2000 ft. of flammable or explosive material; Secured Area; Extensive deterioration.

Bldgs. 1960, 1961, 1964

Naval Weapons Station

Yorktown Co: VA 23691-

Landholding Agency: Navy

Property Number: 77200020029

Status: Unutilized

Reasons: Within 2000 ft. of flammable or explosive material; Secured Area; Extensive deterioration.

Bldgs. 1980, 1981

Naval Weapons Station

Yorktown Co: VA 23691-

Landholding Agency: Navy

Property Number: 77200020030

Status: Unutilized

Reasons: Within 2000 ft. of flammable or explosive material; Secured Area; Extensive deterioration.

Bldg. 160

Cheatham Annex

Williamsburg Co: VA 23185-5830

Landholding Agency: Navy

Property Number: 77200020031

Status: Unutilized

Reasons: Secured Area; Extensive deterioration.

Bldg. 1453

Norfolk Naval Shipyard

Portsmouth Co: VA 23709-5000

Landholding Agency: Navy

Property Number: 77200020063

Status: Unutilized

Reasons: Secured Area; Extensive deterioration.

Bldg. 2185

Marine Corps Base

Quantico Co: VA 00000-

Landholding Agency: Navy

Property Number: 77200040018

Status: Excess

Reason: Extensive deterioration.

Washington

Bldg. 844

Former Park Place Enlisted Club

808 Burwell St.

Bremerton Co: Kitsap WA 98314-

Landholding Agency: GSA

Property Number: 54199840002

Status: Excess

Reason: Within 2000 ft. of flammable or explosive material

GSA Number: 9-D-WA-1164.

Federal Building

403 West Lewis Street

Pasco Co: Franklin WA 99301-

Landholding Agency: GSA

Property Number: 54200030003

Status: Excess

Reason: Within 2000 ft. of flammable or explosive material

GSA Number: 9-G-WA-1178.

Ft. Lawton Comsite

California Ave.

Seattle Co: King WA

Landholding Agency: GSA

Property Number: 54200040009

Status: Excess

Reason: Within 2000 ft. of flammable or explosive material

GSA Number: 9-C-WA-1189.

Bldg. 6661

Naval Submarine Base, Bangor

Silverdale Co: Kitsap WA 98315-6499

Landholding Agency: Navy

Property Number: 77199730039

Status: Unutilized

Reason: Secured Area.

Bldg. 604

Manchester Fuel Department

Port Orchard WA 98366-

Landholding Agency: Navy

Property Number: 77199810170

Status: Excess

Reasons: Within 2000 ft. of flammable or explosive material; Secured Area.

Bldg. 288

Fleet Industrial Supply Center

Bremerton WA 98314-5100

Landholding Agency: Navy

Property Number: 77199810171

Status: Excess

Reasons: Within 2000 ft. of flammable or explosive material; Secured Area.

Bldg. 47

Naval Radio Station T Jim Creek

Arlington Co: Snohomish WA 98223-

Landholding Agency: Navy

Property Number: 77199820056

Status: Unutilized

Reasons: Secured Area; Extensive deterioration.

Bldg. 48

Naval Radio Station T Jim Creek

Arlington Co: Snohomish WA 98223-

Landholding Agency: Navy

Property Number: 77199820057

Status: Unutilized

Reasons: Secured Area; Extensive deterioration.

Coal Handling Facilities

Puget Sound Naval Shipyard

#908, 919, 926-929

Bremerton WA 98314-5000

Landholding Agency: Navy

Property Number: 77199820142

Status: Excess

Reason: Within 2000 ft. of flammable or explosive material.

Bldg. 193

Puget Sound Naval Shipyard

Bremerton WA 98310-

Landholding Agency: Navy

Property Number: 77199820143

Status: Unutilized

Reason: Contamination.

Bldg. 202

Naval Air Station Whidbey Island

Oak Harbor WA 98278-

Landholding Agency: Navy

Property Number: 77199830019

Status: Excess

Reason: Within 2000 ft. of flammable or explosive material.

Bldg. 2649

Naval Air Station Whidbey Island

Oak Harbor WA 98278-

Landholding Agency: Navy

Property Number: 77199830020

Status: Excess

Reasons: Within 2000 ft. of flammable or explosive material; Extensive deterioration.

Bldgs. 35, 36

Naval Radio Station T Jim Creek

Arlington Co: Snohomish WA 98223-

Landholding Agency: Navy

Property Number: 77199830076

Status: Unutilized

Reason: Extensive deterioration.

Bldg. 918

Puget Sound Naval Shipyard

Bremerton WA 98314-5000

Landholding Agency: Navy

Property Number: 77199840020

Status: Unutilized

Reasons: Within 2000 ft. of flammable or explosive material; Secured Area.

Bldg. 894

Naval Undersea Warfare Center

Keyport Co: Kitsap WA 98345-7610

Landholding Agency: Navy

Property Number: 77199920085

Status: Underutilized

Reasons: Within 2000 ft. of flammable or explosive material; Secured Area.

Bldg. 73

Naval Undersea Warfare Center

Keyport Co: Kitsap WA 98345-

Landholding Agency: Navy

Property Number: 77199920152

Status: Underutilized

Reasons: Within 2000 ft. of flammable or explosive material; Secured Area.

Bldg. 210A

Naval Station Bremerton

Bremerton Co: WA 98314-

Landholding Agency: Navy

Property Number: 77199930021

Status: Excess

Reasons: Within 2000 ft. of flammable or explosive material; Secured Area.

Bldg. 511

Naval Station Bremerton

Bremerton Co: WA 98314-

Landholding Agency: Navy

Property Number: 77199930022

Status: Excess

Reasons: Within 2000 ft. of flammable or explosive material; Secured Area; Extensive deterioration.

Bldg. 527

Naval Station Bremerton

Bremerton Co: WA 98314-

Landholding Agency: Navy

Property Number: 77199930023

Status: Excess

Reasons: Within 2000 ft. of flammable or explosive material; Secured Area.

Bldg. 97

Naval Air Station

Whidbey Island

Oak Harbor Co: WA 98278-

Landholding Agency: Navy

Property Number: 77199930040

Status: Unutilized

Reason: Extensive deterioration.

Bldg. 331

Naval Undersea Warfare Center

Keyport Co: Kitsap WA 98345-

Landholding Agency: Navy

Property Number: 77199930041

Status: Unutilized

Reasons: Secured Area; Extensive deterioration.

Bldg. 786

Naval Undersea Warfare Center

Keyport Co: Kitsap WA 98345-

Landholding Agency: Navy

Property Number: 77199930042

Status: Unutilized

Reasons: Secured Area; Extensive deterioration.

Bldg. 15

Naval Air Station, Whidbey Island

Oak Harbor Co: WA 98278-3500

Landholding Agency: Navy

Property Number: 77199930071

Status: Unutilized

Reason: Extensive deterioration.

Bldg. 119

Naval Air Station, Whidbey Island

Oak Harbor Co: WA 98278-3500

Landholding Agency: Navy

Property Number: 77199930072

Status: Unutilized

Reason: Extensive deterioration.

Bldg. 853

Naval Air Station, Whidbey Island

Oak Harbor Co: WA 98278-3500

Landholding Agency: Navy

Property Number: 77199930073

Status: Unutilized

Reason: Extensive deterioration.

Bldg. 854

Naval Air Station, Whidbey Island

Oak Harbor Co: WA 98278-3500

Landholding Agency: Navy

Property Number: 77199930074

Status: Unutilized

Reason: Extensive deterioration.

Bldg. 166

Puget Sound Naval Shipyard

Bremerton Co: WA 98314-5000

Landholding Agency: Navy

Property Number: 77199930101

Status: Excess

Reason: Secured Area.

Bldg. 287

Puget Sound Naval Shipyard

Bremerton Co: WA 98314-5000

Landholding Agency: Navy

Property Number: 77199930102

Status: Excess

Reason: Secured Area.

Bldg. 418

Puget Sound Naval Shipyard

Bremerton Co: WA 98314-5000

Landholding Agency: Navy

Property Number: 77199930103

Status: Excess

Reason: Secured Area.

Bldg. 858

Puget Sound Naval Shipyard

Bremerton Co: WA 98314-5000

Landholding Agency: Navy

Property Number: 77199930104

Status: Excess

Reason: Secured Area.

Bldg. 17

Naval Radio Station

Jim Creek

Arlington Co: WA 98223-8599

Landholding Agency: Navy

Property Number: 77200010073

Status: Excess

Reasons: Secured Area; Extensive deterioration.

Bldg. 47

Naval Undersea Warfare

Keyport Co: Kitsap WA 98345-7610

Landholding Agency: Navy

Property Number: 77200010074

Status: Unutilized

Reasons: Within 2000 ft. of flammable or explosive material; Secured Area.

Whitney Point Complex

Brinnon Co: Jefferson WA 98320-9899

Landholding Agency: Navy

Property Number: 77200010102

Status: Excess

Reason: Extensive deterioration.

Bldg. 398

Naval Station

Bremerton Co: WA 98314-5000

Landholding Agency: Navy

Property Number: 77200020038

Status: Unutilized

Reasons: Within 2000 ft. of flammable or explosive material; Secured Area.

Bldg. 976

Naval Station

Bremerton Co: WA 98314-5020

Landholding Agency: Navy

Property Number: 77200020039

Status: Unutilized

Reasons: Within 2000 ft. of flammable or explosive material; Secured Area; Extensive deterioration.

8 Bldgs.

Naval Station 902, 903, 905, 907, 909-911, 915

Bremerton Co: WA 98314-5020

Landholding Agency: Navy

Property Number: 77200020040

Status: Unutilized

Reasons: Within 2000 ft. of flammable or explosive material; Secured Area.

Bldg. 109

Naval Weapons Station

Port Hadlock Co: Jefferson WA 98339-9723

Landholding Agency: Navy

Property Number: 77200030020

Status: Unutilized

Reasons: Within 2000 ft. of flammable or explosive material; Secured Area; Extensive deterioration.

Bldg. 157

Naval Weapons Station

Port Hadlock Co: Jefferson WA 98339-9723

Landholding Agency: Navy

Property Number: 77200030021

Status: Unutilized

Reasons: Within 2000 ft. of flammable or explosive material; Secured Area; Extensive deterioration.

Bldg. 161

Naval Weapons Station

Port Hadlock Co: Jefferson WA 98339-9723

Landholding Agency: Navy

Property Number: 77200030022

Status: Unutilized

Reasons: Within 2000 ft. of flammable or explosive material; Secured Area; Extensive deterioration.

Bldg. 170

Naval Weapons Station

Port Hadlock Co: Jefferson WA 98339-9723

Landholding Agency: Navy

Property Number: 77200030023

Status: Unutilized

Reasons: Within 2000 ft. of flammable or explosive material; Secured Area; Extensive deterioration.

Bldg. 262

Naval Weapons Station

Port Hadlock Co: Jefferson WA 98339-9723

Landholding Agency: Navy

Property Number: 77200030024

Status: Unutilized

Reasons: Within 2000 ft. of flammable or explosive material; Secured Area; Extensive deterioration.

Bldg. 482

Puget Sound Naval Shipyard

Bremerton Co: WA 98314-5000

Landholding Agency: Navy

Property Number: 77200040019

Status: Excess

Reason: Secured Area.

Bldg. 529

Puget Sound Naval Shipyard

Bremerton Co: WA 98314-5000

Landholding Agency: Navy

Property Number: 77200040020

Status: Excess

Reason: Secured Area.

Wisconsin

2 Offshore Lighthouses

Great Lakes WI

Landholding Agency: GSA

Property Number: 54199630016

Status: Excess

Reason: Extensive deterioration.

Land (by State)

Arizona

58 acres

VA Medical Center

500 Highway 89 North

Prescott Co: Yavapai AZ 86313-

Landholding Agency: VA

Property Number: 97190630001

Status: Unutilized

Reason: Floodway.

20 acres

VA Medical Center

500 Highway 89 North

Prescott Co: Yavapai AZ 86313-

Landholding Agency: VA

Property Number: 97190630002

Status: Underutilized

Reason: Floodway.

California

Space Surv. Field Station

Portion/Off Heritage Road

San Diego CA 90012-1408

Landholding Agency: Navy

Property Number: 77199820049

Status: Excess

Reason: Within 2000 ft. of flammable or explosive material.

Land

Naval Construction Battalion Center

Port Hueneme Co: Ventura CA 93043-4301

Landholding Agency: Navy

Property Number: 77199940001

Status: Underutilized

Reason: Secured Area.

PCL-4 (11.60 acres)

Construction Battalion Center

Port Hueneme Co: Ventura CA 93043-4301

Landholding Agency: Navy

Property Number: 77200020095

Status: Underutilized

Reason: Secured Area.

Connecticut

FAA Direction Finder

11 Quarry Rd.

Killingly Co: CT 06241-

Landholding Agency: GSA

Property Number: 54200110008

Status: Excess

Reason: Within 2000 ft. of flammable or explosive material

GSA Number: 1-U-CT-544.

District Of Columbia

Square 62

2216 C St., NW

Washington Co: DC 20037-

Landholding Agency: GSA

Property Number: 54200040004

Status: Excess

Reason: contamination

GSA Number: 4-G-DC-0478.

Florida

(P) Ponce de Leon Inlet

2999 N. Peninsula Ave.

New Smyrna Beach Co: Volusia FL 32169-

Landholding Agency: GSA

Property Number: 54199940015

Status: Excess

Reason: Floodway

GSA Number: 4-U-FL-1170.

Wildlife Sanctuary, VAMC

10,000 Bay Pines Blvd.

Bay Pines Co: Pinellas FL 33504-

Landholding Agency: VA

Property Number: 97199230004

Status: Underutilized

Reason: Inaccessible.

Guam

Submerged Lands

Ritidian Point GU

Landholding Agency: GSA

Property Number: 54199640003

Status: Excess

Reason: Inaccessible

GSA Number: 9-N-GU-437.

Kentucky

9 Tracts

Daniel Boone National Forest

Co: Owsley KY 37902-

Landholding Agency: GSA

Property Number: 54199620012

Status: Excess

Reason: Floodway

GSA Number: 4-G-KY-607.

Maryland

6 Acres

Naval Air Station

Patuxent River Co: MD 20670-

Landholding Agency: Navy

Property Number: 77199940023

Status: Unutilized

Reason: Secured Area.

Land—5000 sq. ft.

Naval Air Station

Patuxent River Co: MD 20670-1603

Landholding Agency: Navy

Property Number: 77200010023

Status: Unutilized

Reason: Secured Area.

Massachusetts

Comm. Annex #1

(Former)

Granby Co: Hampshire MA 01033-

Landholding Agency: GSA

Property Number: 54200010002

Status: Excess

Reason: Within airport runway clear zone

GSA Number: 1-D-MA-0856.

USCG Loran Station

Siasconset Co: Nantucket MA 02564-0880

Landholding Agency: GSA

Property Number: 54200040008

Status: Excess

Reason: Within 2000 ft. of flammable or explosive material

GSA Number: 1-U-MA-858.

Michigan

Port/EPA Large Lakes Rsch Lab

Grosse Ile Twp Co: Wayne MI

Landholding Agency: GSA

Property Number: 54199720022

Status: Excess

Reason: Within airport runway clear zone

GSA Number: 1-Z-MI-554-A.

Minnesota

3.85 acres (Area #2)

VA Medical Center 4801 8th Street

St. Cloud Co: Stearns MN 56303-

Landholding Agency: VA

Property Number: 97199740004

Status: Unutilized

Reason: landlocked.

7.48 acres (Area #1)

VA Medical Center

4801 8th Street

St. Cloud Co: Stearns MN 56303-

Landholding Agency: VA

Property Number: 97199740005

Status: Underutilized

Reason: Secured Area.

New Hampshire

Parcel #4

Portsmouth Naval Shipyard

Portsmouth Co: NH 03804-5000

Landholding Agency: Navy

Property Number: 77200010028

Status: Underutilized

Reasons: Within 2000 ft. of flammable or explosive material; Secured Area.

Parcel #5

Portsmouth Naval Shipyard

Portsmouth Co: NH 03804-5000

Landholding Agency: Navy

Property Number: 77200010029

Status: Underutilized

Reasons: Within 2000 ft. of flammable or explosive material; Secured Area.

Parcel #6

Portsmouth Naval Shipyard

Portsmouth Co: NH 03804-5000

Landholding Agency: Navy

Property Number: 77200010030

Status: Underutilized

Reasons: Within 2000 ft. of flammable or explosive material; Secured Area.

Parcel #7

Portsmouth Naval Shipyard

Portsmouth Co: NH 03804-5000

Landholding Agency: Navy

Property Number: 77200010031

Status: Underutilized

Reasons: Within 2000 ft. of flammable or explosive material; Secured Area.

New York

Tract 1

VA Medical Center

Bath Co: Steuben NY 14810-

Location: Exit 38 off New York State Route 17.

Landholding Agency: VA

Property Number: 97199010011

Status: Unutilized

Reason: Secured Area.

Tract 2

VA Medical Center

Bath Co: Steuben NY 14810-

Location: Exit 38 off New York State Route 17.

Landholding Agency: VA

Property Number: 97199010012

Status: Underutilized

Reason: Secured Area.

Tract 3

VA Medical Center

Bath Co: Steuben NY 14810-

Location: Exit 38 off New York State Route 17.

Landholding Agency: VA

Property Number: 97199010013

Status: Underutilized

Reason: Secured Area.

Tract 4

VA Medical Center

Bath Co: Steuben NY 14810-

Location: Exit 38 off New York State Route 17.

Landholding Agency: VA

Property Number: 97199010014

Status: Unutilized

Reason: Secured Area.

North Carolina

0.85 parcel of land

Marine Corps Air Station, Cherry Point

Havelock Co: Craven NC 28533-

Landholding Agency: Navy

Property Number: 77199740074

Status: Unutilized

Reason: Secured Area.

0.1291 acres

Camp Lejeune

off Dogwood

Camp Lejeune Co: Onslow NC 28542-

Landholding Agency: Navy

Property Number: 77200010069

Status: Unutilized

Reason: Secured Area.

0.1291 acres

Camp Lejeune

off Brewster Rd.

Camp Lejeune Co: Onslow NC 28542-

Landholding Agency: Navy

Property Number: 77200010070

Status: Unutilized

Reason: Secured Area.

Ohio

Lewis Research Center

Cedar Point Road

Cleveland Co: Cuyahoga OH 44135-

Landholding Agency: GSA

Property Number: 54199610007

Status: Excess

Reasons: Within 2000 ft. of flammable or explosive material; Within airport runway clear zone.

GSA Number: 2-Z-OH-598-I.

Pennsylvania

Novak Estate Land

off the Parkway West

Moon Township Co: Allegheny PA 15222-

Landholding Agency: GSA

Property Number: 54200010006

Status: Excess

Reason: Inaccessible

GSA Number: 4-G-PA-787.

Washington

Tract B-201

Geiger Heights Lagoon

Spokane Co: WA 99210-

Landholding Agency: GSA

Property Number: 18199930014

Status: Excess

Reason: Within 2000 ft. of flammable or explosive material

GSA Number: 9-D-WA-1180.

Land-Port Hadlock Detachment

Naval Ordnance Center Pacific Division

Port Hadlock Co: Jefferson WA 98339-

Landholding Agency: Navy

Property Number: 77199640019

Status: Underutilized

Reasons: Within 2000 ft. of flammable or explosive material; Secured Area.

Wisconsin

0.51 acre

Portion, Fox River Proj.

Kaukauna Co: Outgamie WI 00000-

Landholding Agency: GSA

Property Number: 54200030007

Status: Excess

Reason: landlocked

GSA Number: 1-D-WI-533-A

Wyoming

Cody Industrial Area

Cody Co: Park WY 82414-

Landholding Agency: GSA

Property Number: 54199740008

Status: Excess

Reason: Within 2000 ft. of flammable or explosive material

GSA Number: 7-I-WY-0539

[FR Doc. 01-5545 Filed 3-8-01; 8:45 am]

BILLING CODE 4210-29-P